DEPARTMENT OF AGRICULTURE

Agricultural Marketing Service

7 CFR Part 1205

[Doc. # AMS-CN-11-0026; CN-11-002]

Cotton Board Rules and Regulations: Adjusting Supplemental Assessment on Imports

AGENCY: Agricultural Marketing Service, USDA.

ACTION: Final rule.

SUMMARY: The Agricultural Marketing Service (AMS) is amending the Cotton Board Rules and Regulations by updating the value assigned to imported cotton for the purpose of calculating supplemental assessments collected for use by the Cotton Research and Promotion Program. An amendment is required to adjust the supplemental assessment and to ensure that assessments collected on imported raw cotton and the cotton content of imported cotton-containing products are the same as assessments collected on domestically produced cotton. In addition, AMS is updating the textile trade conversion factors used to determine the raw fiber equivalents of imported cotton-containing products and expanding the number of Harmonized Tariff Schedule (HTS) statistical reporting numbers from the current 706 to 2,371 to assess all imported cotton and cotton-containing products.

DATES: Effective Date: September 30, 2011.

FOR FURTHER INFORMATION CONTACT: Shethir M. Riva, Chief, Research and Promotion Staff, Cotton and Tobacco Programs, AMS, USDA, Stop 0224, 1400 Independence Ave., SW., Room 2635-S, Washington, DC 20250-0224, telephone (540) 361-2726, facsimile (202) 690-1718, or e-mail at Shethir.Riva@ams.usda.gov.

SUPPLEMENTARY INFORMATION:

Executive Order 12866

The Office of Management and Budget has waived the review process required by Executive Order 12866 for this action.

Executive Order 12988

This rule has been reviewed under Executive Order 12988, Civil Justice Reform. It is not intended to have retroactive effect.

The Cotton Research and Promotion Act (7 U.S.C. 2101-2118) (Act) provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Background

Import Assessment

Amendments to the Act were enacted by Congress under Subtitle G of Title XIX of the Food, Agriculture, Conservation, and Trade Act of 1990 (Pub. L. 101-624, 104 Stat. 3909, November 28, 1990). These amendments contained two provisions that authorized changes in the funding procedures for the Cotton Research and Promotion Program.

These provisions are: (1) The authority to assess imported cotton and cotton products; and (2) the termination of the right of cotton producers to demand a refund of assessments.

As amended, the Cotton Research and Promotion Order (7 CFR part 1205) (Order) was approved by cotton producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This rule increases the value assigned to imported cotton in the Cotton Board Rules and Regulations (7 CFR 1205.510(b)(2)). The total value of assessments levied is determined using a two-part assessment. The first part of the assessment is levied on the weight of cotton imported at a rate of $1 per 500-pound bale of cotton or $1 per 226.8 kilograms of cotton. The second part of the assessment—known as the supplemental assessment—is levied at a rate of five-tenths of one percent of the value of imported raw cotton or the cotton content of imported cotton-containing products. The supplemental assessment is combined with the per bale equivalent to determine the total value and assessment of the imported cotton or imported cotton-containing products.

Section 1205.510(b)(2) of the Cotton Research and Promotion Rules and Regulations provides for the calendar year weighted average price received by U.S. farmers for Upland cotton to represent the value of domestically produced cotton, imported raw cotton and the cotton content of imported cotton-containing products. Use of the same weighted average price ensures that assessments paid on domestically produced cotton and assessments on imported cotton are the same. The source of price statistics is Agricultural Prices, a publication of the National Agricultural Statistics Service (NASS) of the Department of Agriculture.

The current value of imported cotton as published in the Federal Register (74 FR 32400) for the purpose of calculating assessments on imported cotton is $0.010880 per kilogram. Using the weighted average price received by U.S. farmers for Upland cotton for the calendar year 2010, the new value of imported cotton is $0.012665 per kilogram.

An example of the complete assessment formula and how the figures are obtained is as follows:

One bale is equal to 500 pounds.

One kilogram equals 2.2046 pounds.

One pound equals 0.453597 kilograms.

One Dollar Per Bale Assessment Converted to Kilograms

A 500-pound bale equals 226.8 kg. (500 × .453597).

$1 per bale assessment equals $0.002 per pound or 0.2 cents per pound (1/500) or $0.004409 per kg or 0.4409 cents per kg. (1/226.8).

Supplemental Assessment of 5/10 of One Percent of the Value of the Cotton Converted to Kilograms

The 2010 calendar year weighted average price received by producers for Upland cotton is $0.749 per pound or $1.651 per kg. (0.749 × 2.2046).

Five tenths of one percent of the weighted average price in kilograms equals $0.008256 per kg. (1.651 × .005).

Total Assessment

The total assessment per kilogram of raw cotton is obtained by adding the $1 per bale equivalent assessment of $0.004409 per kg. and the supplemental assessment $0.008256 per kg., which equals $0.012665 per kg.

The current assessment on imported cotton is $0.01088 per kilogram of imported cotton. The new assessment is $0.012665, an increase of $0.001785 per kilogram. This increase reflects the increase in the average weighted price of Upland Cotton Received by U.S. Farmers during the period January through December 2010. The Import Assessment Table in section 1205.510(b)(3) indicates the conversion factors used to estimate cotton equivalent quantities and the total assessment per kilogram due for each HTS number subject to assessment. Since the weighted average price of cotton that serves as the basis of the supplemental assessment calculation has changed, total assessment rates reported in this table have been revised.

Conversion Factors

USDA's Economic Research Service (ERS) regularly publishes textile trade data which includes estimates of the amount of cotton contained in imported cotton products. The raw cotton equivalent is the estimated weight of the cotton fiber in the garment adjusted for waste that occurs in spinning, weaving, and cutting. To estimate raw cotton equivalents, ERS uses a set of cotton textile trade conversion factors. The Agricultural Marketing Service (AMS) currently uses a subset of these conversion factors to estimate cotton equivalents contained in cotton textile products imported into the U.S., which serve as the basis for collecting cotton import assessments for the Cotton Research and Promotion Program.

ERS periodically evaluates how technology-driven improvements in textile production efficiencies—reductions in yarn waste—impacts the total quantity of raw cotton consumed in the production of various textile products. Such an evaluation was conducted initially in 1989 shortly after the U.S. adopted the international system of harmonized tariff codes, again in 2000, and most recently in 2009. The 2009 evaluation of conversion factors, which was based on two published studies,¹ concluded that technological advancements in textile production processes have significantly changed since the current conversion factors were established. Furthermore, factors used to convert imported textile products into raw cotton bale-equivalent quantities were revised. Results of the ERS study were published in Cotton and Wool Outlook, October 13, 2009.²

¹ MacDonald, Stephen. China's Cotton Supply and Demand: Issues and Impact on the World Market, CWS-071-01, November 2007, U.S. Department of Agriculture, Economic Research Service, http://www.ers.usda.gov/publications/CWS/2007/11Nov/CWS07I01/.

MacDonald, Stephen and Sarah Whitley. Fiber Use for Textiles and China's Cotton Textile Exports, CWS-08i-01, March 2009, U.S. Department of Agriculture, Economic Research Service, http://www.ers.usda.gov/Publications/CWS/2009/03Mar/CWS08i01/.

² Meyer, Leslie, Stephen MacDonald and James Kiawu. Cotton and Wool Outlook, CWS-09h, October 13, 2009, U.S. Department of Agriculture, Economic Research Service, http://usda.mannlib.cornell.edu/usda/ers/CWS//2000s/2009/CWS-10-13-2009.pdf.

An analysis of these cotton trade conversion factors for a subset of cotton textile imports on which cotton import assessments are collected revealed that the differences between the current conversion factors and revised conversion factors represent an approximate 4.7 percent reduction in cotton (177 million kilogram) or $1.93 million less in assessments (177 million kilograms * $0.01088/kilogram = $1.93 million). Therefore, AMS adopts the revised and expanded textile trade conversion factors in the Import Assessment Table that appears in section 1205.510(b)(3)(ii) in the regulations to reflect updated textile technologies and to more accurately estimate the amount of cotton contained in cotton-containing imports. This will assure a more fair and accurate assessment of imported cotton-containing products.

HTS Codes

In a 2010 report, ERS determined that the current set of HTS codes used by AMS for research and promotion assessment purposes accounted for 89 percent of the total U.S. cotton product imports leaving 11 percent (442 million kilograms) of imported cotton products unassessed. By expanding AMS' list to include 2,371 HTS codes and using the current assessment rate of $0.01088 per kilogram, the Cotton Research and Promotion Program could have collected approximately $4.81 million more in 2009. Based on these findings, the Board requested that AMS take necessary steps to publish its annual import assessment update with updated conversion factors and to increase the number of HTS codes from 706 to 2,371 so that the program collects close to 100 percent on imported cotton and cotton-containing products, as it does with the domestic producer assessment. AMS is expanding the list of HTS codes included in 7 CFR part 1205 to include all HTS codes for cotton and cotton-containing products for the collection of import assessments.

Summary of Comments

A proposed rule was published on June 3, 2011, with a comment period of June 3, 2011, through July 5, 2011 (76 FR 32088). AMS received 12 comments from individuals and various organizations representing segments of the cotton or manufacturing industry. Eight comments came from those supporting the proposed rule, including one from the Cotton Board who administers the Cotton Research and Promotion Program. AMS received three opposing comments and one comment from an individual who took no position but questioned parts of the proposed rule. All comments received are available for public inspection at Cotton and Tobacco Programs, AMS, USDA, Stop 0224, 1400 Independence Ave., SW., Room 2635-S, Washington, DC 20250-0224 during regular business hours. Comments may also be found at http://www.regulations.gov.

Overall, the comments were favorable in support of both the proposed changes and the Cotton Research and Promotion Program.

Of the commenters, two commenters opposed the proposed rule, but believed that the Cotton Research and Promotion Program has merit and numerous benefits. The commenters expressed concerned over the proposed increase in the cotton assessment and argued that it would burden companies. The commenters referenced the volatility of the cotton market and increases in cotton prices witnessed over the past 12-18 months, and they objected to any revised assessment that would result in an increase in the amount of fees that are paid by importers under the Cotton Research and Promotion Program. In addition, one individual stated that this is not an appropriate time to pass along additional fees or cost to consumers given the burdens of unemployment and suggested decreasing the producers assessment to coincide with the current importer fee. Section 1205.510, “Levy of assessments”, provides “the rate of the supplemental assessment on imported cotton will be the same as that levied on cotton produced within the United States.” In addition, section 1205.510 provides that the 12-month average of monthly weighted average prices received by U.S. farmers will be used as the value of imported cotton for the purpose of levying the supplemental assessment on imported cotton. AMS used the 2010 price statistics found in Agricultural Prices, a publication of the National Agricultural Statistics Service of the Department of Agriculture, to calculate the average weighted price and convert it to arrive at the new rate of 1.2665 cents per kilogram. Therefore, AMS has made no changes to the proposed rule based on these comments.

Four organizations encouraged USDA to streamline the process for annually calculating the value of cotton and ensure that the value is calculated at approximately the same time each year. AMS is currently exploring possible options to streamline the process.

AMS received a comment questioning the proposed list of HTS codes and identified some examples of proposed codes that are categorized in the HTS as containing only man-made fibers. The commenter surmised that if no cotton is contained in these HTS codes, then the codes should not be assessed the cotton fee or have a conversion factor.

The proposed rule contained all HTS codes identified by ERS in its 2009 study as containing some cotton. AMS in turn uses these HTS codes for assessment purposes. While the HTS codes noted by the commenter are indeed HTS codes classified by the International Trade Commission as being man-made fiber products, they are not considered 100 percent man-made fibers and, therefore, are estimated to contain small percentages of other fibers, like cotton. This would also hold true for mostly cotton fiber products, as not all codes labeled as cotton products are considered 100 percent cotton. In fact, only about 11 percent of the total textile codes noted is considered 100 percent cotton.

According to ERS, the goal of the estimation process established by ERS is to determine the accumulated quantities of raw fiber contained in both imported and exported textile products and how these quantities change over time. While it is possible for an individual textile product—or even a particular shipment within a given textile product code—to contain a larger (or smaller) percentage of an individual fiber than estimated by ERS, the purpose is to estimate the most common and average fiber makeup of each textile HTS code.

It is the responsibility of the Cotton Board to collect assessments on cotton and cotton-containing products. ERS concluded that products classified with man-made fiber HTS codes are estimated to contain other fibers, including cotton, and conversion factors have been calculated to determine the average amount. The Cotton Research and Promotion Program will used the amount of cotton to calculate the assessment.

AMS agrees that there is a possibility of select import products identified as containing cotton actually being composed of 100 percent man-made fibers. The Cotton Research and Promotion regulations in section 1205.336 provides for a remedy. If an importer has paid assessments and can prove that such assessment was made on fiber other than Upland cotton, the importer has the right to request and receive a reimbursement from the Cotton Board.

Regulatory Flexibility Act and Paperwork Reduction Act

In accordance with the Regulatory Flexibility Act (RFA) [5 U.S.C. 601-612], AMS examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. An estimated 13,000 importers are subject to the rules and regulations issued pursuant to the Cotton Research and Promotion Order. Most are considered small entities as defined by the Small Business Administration.

This final rule only affects importers of cotton and cotton-containing products, and it raises the assessments paid by the importers under the Cotton Research and Promotion Order. The current assessment on imported cotton is $0.01088 per kilogram, which is equivalent to 1.088 cents per kilogram, of imported cotton. The new assessment is $.012665 which is equivalent to 1.2665 cents per kilogram and was calculated based on the 12-month average of monthly weighted average prices received by U.S. cotton farmers. Section 1205.510, “Levy of assessments”, provides “the rate of the supplemental assessment on imported cotton will be the same as that levied on cotton produced within the United States.” In addition, section 1205.510 provides that the 12-month average of monthly weighted average prices received by U.S. farmers will be used as the value of imported cotton for the purpose of levying the supplemental assessment on imported cotton. AMS used the 2010 price statistics found in Agricultural Prices, a publication of the National Agricultural Statistics Service of the Department of Agriculture, to calculate the average weighted price and convert it to arrive at the new rate of 1.2665 cents per kilogram as detailed in the Background section.

Under the Cotton Research and Promotion Program, assessments are used by the Cotton Board to finance research and promotion programs designed to increase consumer demand for Upland cotton within the United States and international markets. In 2010, producer assessments totaled $46.5 million and importer assessments totaled $38.2 million. According to the Cotton Board, should the volume of cotton products imported into the U.S. remain at the same level in 2011, one could expect the increased importer assessment to generate approximately $10.8 million.

Importers with line-items appearing on U.S. Customs and Border Protection documentation with value of the cotton contained therein results of an assessment of two dollars ($2.00) or less will not be subject to assessments. In addition, imported cotton and products may be exempt from assessment if the cotton content of products is U.S. produced, cotton other than Upland, or imported products that are eligible to be labeled as 100 percent organic under the National Organic Program (7 CFR part 205) and who is not a split operation.

There are no Federal rules that duplicate, overlap, or conflict with this rule.

In compliance with Office of Management and Budget (OMB) regulations (5 CFR part 1320) which implement the Paperwork Reduction Act (PRA) (44 U.S.C. Chapter 35) the information collection requirements contained in the regulation that needed to be amended have been previously approved by OMB and were assigned control number 0581-0093. This rule does not result in a change to the information collection and recordkeeping requirements previously approved.

List of Subjects in 7 CFR Part 1205

Advertising, Agricultural research, Cotton, Marketing agreements, Reporting and recordkeeping requirements.

For the reasons set forth in the preamble 7 CFR part 1205 is amended as follows:

PART 1205—COTTON RESEARCH AND PROMOTION

1. The authority citation for part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is 1.2665 cents per kilogram.

(3) * * *

(ii) * * *

Import Assessment Table
[Raw cotton fiber]
HTS No. | Conv. fact. | Cents/kg.
5201000500 | 0 | 1.2665
5201001200 | 0 | 1.2665
5201001400 | 0 | 1.2665
5201001800 | 0 | 1.2665
5201002200 | 0 | 1.2665
5201002400 | 0 | 1.2665
5201002800 | 0 | 1.2665
5201003400 | 0 | 1.2665
5201003800 | 0 | 1.2665
5204110000 | 1.0526 | 1.3332
5204200000 | 1.0526 | 1.3332
5208112020 | 1.0852 | 1.3744
5208112040 | 1.0852 | 1.3744
5208112090 | 1.0852 | 1.3744
5208114020 | 1.0852 | 1.3744
5208114040 | 1.0852 | 1.3744
5208114060 | 1.0852 | 1.3744
5208114090 | 1.0852 | 1.3744
5208116000 | 1.0852 | 1.3744
5208118020 | 1.0852 | 1.3744
5208118090 | 1.0852 | 1.3744
5208124020 | 1.0852 | 1.3744
5208124040 | 1.0852 | 1.3744
5208124090 | 1.0852 | 1.3744
5208126020 | 1.0852 | 1.3744
5208126040 | 1.0852 | 1.3744
5208126060 | 1.0852 | 1.3744
5208126090 | 1.0852 | 1.3744
5208128020 | 1.0852 | 1.3744
5208128090 | 1.0852 | 1.3744
5208130000 | 1.0852 | 1.3744
5208192020 | 1.0852 | 1.3744
5208192090 | 1.0852 | 1.3744
5208194020 | 1.0852 | 1.3744
5208194090 | 1.0852 | 1.3744
5208196020 | 1.0852 | 1.3744
5208196090 | 1.0852 | 1.3744
5208198020 | 1.0852 | 1.3744
5208198090 | 1.0852 | 1.3744
5208212020 | 1.0852 | 1.3744
5208212040 | 1.0852 | 1.3744
5208212090 | 1.0852 | 1.3744
5208214020 | 1.0852 | 1.3744
5208214040 | 1.0852 | 1.3744
5208214060 | 1.0852 | 1.3744
5208214090 | 1.0852 | 1.3744
5208216020 | 1.0852 | 1.3744
5208216090 | 1.0852 | 1.3744
5208224020 | 1.0852 | 1.3744
5208224040 | 1.0852 | 1.3744
5208224090 | 1.0852 | 1.3744
5208226020 | 1.0852 | 1.3744
5208226040 | 1.0852 | 1.3744
5208226060 | 1.0852 | 1.3744
5208226090 | 1.0852 | 1.3744
5208228020 | 1.0852 | 1.3744
5208228090 | 1.0852 | 1.3744
5208230000 | 1.0852 | 1.3744
5208292020 | 1.0852 | 1.3744
5208292090 | 1.0852 | 1.3744
5208294020 | 1.0852 | 1.3744
5208294090 | 1.0852 | 1.3744
5208296020 | 1.0852 | 1.3744
5208296090 | 1.0852 | 1.3744
5208298020 | 1.0852 | 1.3744
5208298090 | 1.0852 | 1.3744
5208312000 | 1.0852 | 1.3744
5208314020 | 1.0852 | 1.3744
5208314040 | 1.0852 | 1.3744
5208314090 | 1.0852 | 1.3744
5208316020 | 1.0852 | 1.3744
5208316040 | 1.0852 | 1.3744
5208316060 | 1.0852 | 1.3744
5208316090 | 1.0852 | 1.3744
5208318020 | 1.0852 | 1.3744
5208318090 | 1.0852 | 1.3744
5208321000 | 1.0852 | 1.3744
5208323020 | 1.0852 | 1.3744
5208323040 | 1.0852 | 1.3744
5208323090 | 1.0852 | 1.3744
5208324020 | 1.0852 | 1.3744
5208324040 | 1.0852 | 1.3744
5208324060 | 1.0852 | 1.3744
5208324090 | 1.0852 | 1.3744
5208325020 | 1.0852 | 1.3744
5208325090 | 1.0852 | 1.3744
5208330000 | 1.0852 | 1.3744
5208392020 | 1.0852 | 1.3744
5208392090 | 1.0852 | 1.3744
5208394020 | 1.0852 | 1.3744
5208394090 | 1.0852 | 1.3744
5208396020 | 1.0852 | 1.3744
5208396090 | 1.0852 | 1.3744
5208398020 | 1.0852 | 1.3744
5208398090 | 1.0852 | 1.3744
5208412000 | 1.0852 | 1.3744
5208414000 | 1.0852 | 1.3744
5208416000 | 1.0852 | 1.3744
5208418000 | 1.0852 | 1.3744
5208421000 | 1.0852 | 1.3744
5208423000 | 1.0852 | 1.3744
5208424000 | 1.0852 | 1.3744
5208425000 | 1.0852 | 1.3744
5208430000 | 1.0852 | 1.3744
5208492000 | 1.0852 | 1.3744
5208494010 | 1.0852 | 1.3744
5208494020 | 1.0852 | 1.3744
5208494090 | 1.0852 | 1.3744
5208496010 | 1.0852 | 1.3744
5208496020 | 1.0852 | 1.3744
5208496030 | 1.0852 | 1.3744
5208496090 | 1.0852 | 1.3744
5208498020 | 1.0852 | 1.3744
5208498090 | 1.0852 | 1.3744
5208512000 | 1.0852 | 1.3744
5208514020 | 1.0852 | 1.3744
5208514040 | 1.0852 | 1.3744
5208514090 | 1.0852 | 1.3744
5208516020 | 1.0852 | 1.3744
5208516040 | 1.0852 | 1.3744
5208516060 | 1.0852 | 1.3744
5208516090 | 1.0852 | 1.3744
5208518020 | 1.0852 | 1.3744
5208518090 | 1.0852 | 1.3744
5208521000 | 1.0852 | 1.3744
5208523020 | 1.0852 | 1.3744
5208523035 | 1.0852 | 1.3744
5208523040 | 1.0852 | 1.3744
5208523045 | 1.0852 | 1.3744
5208523090 | 1.0852 | 1.3744
5208524020 | 1.0852 | 1.3744
5208524035 | 1.0852 | 1.3744
5208524040 | 1.0852 | 1.3744
5208524045 | 1.0852 | 1.3744
5208524055 | 1.0852 | 1.3744
5208524065 | 1.0852 | 1.3744
5208524090 | 1.0852 | 1.3744
5208525020 | 1.0852 | 1.3744
5208525090 | 1.0852 | 1.3744
5208591000 | 1.0852 | 1.3744
5208592015 | 1.0852 | 1.3744
5208592025 | 1.0852 | 1.3744
5208592085 | 1.0852 | 1.3744
5208592090 | 1.0852 | 1.3744
5208592095 | 1.0852 | 1.3744
5208594020 | 1.0852 | 1.3744
5208594090 | 1.0852 | 1.3744
5208596020 | 1.0852 | 1.3744
5208596090 | 1.0852 | 1.3744
5208598020 | 1.0852 | 1.3744
5208598090 | 1.0852 | 1.3744
5209516015 | 1.0852 | 1.3744
5209516025 | 1.0852 | 1.3744
5209516032 | 1.0852 | 1.3744
5209516035 | 1.0852 | 1.3744
5209516050 | 1.0852 | 1.3744
5209516090 | 1.0852 | 1.3744
5209520020 | 1.0852 | 1.3744
5209520040 | 1.0852 | 1.3744
5209590015 | 1.0852 | 1.3744
5209590025 | 1.0852 | 1.3744
5209590040 | 1.0852 | 1.3744
5209590060 | 1.0852 | 1.3744
5209590090 | 1.0852 | 1.3744
5607909000 | 0.8421 | 1.0665
5702491020 | 0.8947 | 1.1332
5702491080 | 0.8947 | 1.1332
5702990500 | 0.8947 | 1.1332
5702991500 | 0.8947 | 1.1332
5801250010 | 1.0852 | 1.3744
5803001000 | 1.0852 | 1.3744
5805003000 | 1.0852 | 1.3744
5901904000 | 0.8139 | 1.0308
5904901000 | 0.0326 | 0.0412
5907002500 | 0.3798 | 0.4810
5907003500 | 0.3798 | 0.4810
5907008090 | 0.3798 | 0.4810
6006211000 | 1.0965 | 1.3887
6006221000 | 1.0965 | 1.3887
6006231000 | 1.0965 | 1.3887
6006241000 | 1.0965 | 1.3887
6107910030 | 1.1918 | 1.5095
6107910040 | 1.1918 | 1.5095
6108210010 | 1.1790 | 1.4932
6108210020 | 1.1790 | 1.4932
6108910005 | 1.1790 | 1.4932
6108910015 | 1.1790 | 1.4932
6108910025 | 1.1790 | 1.4932
6108910030 | 1.1790 | 1.4932
6108910040 | 1.1790 | 1.4932
6111201000 | 1.1918 | 1.5095
6111202000 | 1.1918 | 1.5095
6115101510 | 1.0965 | 1.3887
6115198010 | 1.0965 | 1.3887
6115298010 | 1.0965 | 1.3887
6116101300 | 0.3463 | 0.4385
6116101720 | 0.8079 | 1.0233
6116926430 | 1.1542 | 1.4618
6116927460 | 1.1542 | 1.4618
6117808710 | 1.1542 | 1.4618
6117909003 | 1.1542 | 1.4618
6117909020 | 1.1542 | 1.4618
6117909040 | 1.1542 | 1.4618
6117909060 | 1.1542 | 1.4618
6117909080 | 1.1542 | 1.4618
6201122025 | 0.9979 | 1.2638
6201122035 | 0.9979 | 1.2638
6201922021 | 1.2193 | 1.5443
6201922031 | 1.2193 | 1.5443
6201922041 | 1.2193 | 1.5443
6202122025 | 1.2332 | 1.5618
6202122035 | 1.2332 | 1.5618
6202921000 | 0.9865 | 1.2494
6202922026 | 1.2332 | 1.5618
6202922031 | 1.2332 | 1.5618
6203221000 | 1.2332 | 1.5618
6203424006 | 1.1796 | 1.4939
6203424011 | 1.1796 | 1.4939
6203424021 | 1.1796 | 1.4939
6203424026 | 1.1796 | 1.4939
6203424031 | 1.1796 | 1.4939
6203424036 | 1.1796 | 1.4939
6204221000 | 1.2332 | 1.5618
6204421000 | 1.2058 | 1.5271
6204423010 | 1.2058 | 1.5271
6204423020 | 1.2058 | 1.5271
6204521000 | 1.2618 | 1.5981
6204623000 | 1.1796 | 1.4939
6204624006 | 1.1796 | 1.4939
6204624011 | 1.1796 | 1.4939
6204624026 | 1.1796 | 1.4939
6204624031 | 1.1796 | 1.4939
6204624036 | 1.1796 | 1.4939
6204624041 | 1.1796 | 1.4939
6205201000 | 1.1796 | 1.4939
6206301000 | 1.1796 | 1.4939
6209205040 | 1.1545 | 1.4621
6213201000 | 1.1187 | 1.4169
6216001300 | 0.3427 | 0.4340
6216001900 | 0.3427 | 0.4340
6216003300 | 0.5898 | 0.7470
6216003500 | 0.5898 | 0.7470
6216003800 | 1.1796 | 1.4939
6216004100 | 1.1796 | 1.4939
6302100005 | 1.1073 | 1.4024
6302100008 | 1.1073 | 1.4024
6302100015 | 1.1073 | 1.4024
6302213010 | 1.1073 | 1.4024
6302213020 | 1.1073 | 1.4024
6302213030 | 1.1073 | 1.4024
6302213040 | 1.1073 | 1.4024
6302213050 | 1.1073 | 1.4024
6302217010 | 1.1073 | 1.4024
6302217020 | 1.1073 | 1.4024
6302217030 | 1.1073 | 1.4024
6302217040 | 1.1073 | 1.4024
6302217050 | 1.1073 | 1.4024
6302313010 | 1.1073 | 1.4024
6302313020 | 1.1073 | 1.4024
6302313030 | 1.1073 | 1.4024
6302313040 | 1.1073 | 1.4024
6302313050 | 1.1073 | 1.4024
6302317010 | 1.1073 | 1.4024
6302317020 | 1.1073 | 1.4024
6302317030 | 1.1073 | 1.4024
6302317040 | 1.1073 | 1.4024
6302317050 | 1.1073 | 1.4024
6302600010 | 1.1073 | 1.4024
6302910015 | 1.1073 | 1.4024
6304191000 | 1.1073 | 1.4024
6505901515 | 1.1189 | 1.4170
6505901525 | 0.5594 | 0.7085
6505901540 | 1.1189 | 1.4170
6505902030 | 0.9412 | 1.1921
6505902060 | 0.9412 | 1.1921
6505902545 | 0.5537 | 0.7012
9404908020 | 0.9966 | 1.2622
9404908040 | 0.9966 | 1.2622
9404908505 | 0.6644 | 0.8415
9404909505 | 0.6644 | 0.8415
5205111000 | 1.0000 | 1.2665
5205112000 | 1.0000 | 1.2665
5205121000 | 1.0000 | 1.2665
5205122000 | 1.0000 | 1.2665
5205131000 | 1.0000 | 1.2665
5205132000 | 1.0000 | 1.2665
5205141000 | 1.0000 | 1.2665
5205142000 | 1.0000 | 1.2665
5205151000 | 1.0000 | 1.2665
5205152000 | 1.0000 | 1.2665
5205210020 | 1.0440 | 1.3222
5205210090 | 1.0440 | 1.3222
5205220020 | 1.0440 | 1.3222
5205220090 | 1.0440 | 1.3222
5205230020 | 1.0440 | 1.3222
5205230090 | 1.0440 | 1.3222
5205240020 | 1.0440 | 1.3222
5205240090 | 1.0440 | 1.3222
5205260020 | 1.0440 | 1.3222
5205260090 | 1.0440 | 1.3222
5205270020 | 1.0440 | 1.3222
5205270090 | 1.0440 | 1.3222
5205280020 | 1.0440 | 1.3222
5205280090 | 1.0440 | 1.3222
5205310000 | 1.0000 | 1.2665
5205320000 | 1.0000 | 1.2665
5205330000 | 1.0000 | 1.2665
5205340000 | 1.0000 | 1.2665
5205350000 | 1.0000 | 1.2665
5205410020 | 1.0440 | 1.3222
5205410090 | 1.0440 | 1.3222
5205420021 | 1.0440 | 1.3222
5205420029 | 1.0440 | 1.3222
5205420090 | 1.0440 | 1.3222
5205430021 | 1.0440 | 1.3222
5205430029 | 1.0440 | 1.3222
5205430090 | 1.0440 | 1.3222
5205440021 | 1.0440 | 1.3222
5205440029 | 1.0440 | 1.3222
5205440090 | 1.0440 | 1.3222
5205460021 | 1.0440 | 1.3222
5205460029 | 1.0440 | 1.3222
5205460090 | 1.0440 | 1.3222
5205470021 | 1.0440 | 1.3222
5205470029 | 1.0440 | 1.3222
5205470090 | 1.0440 | 1.3222
5205480020 | 1.0440 | 1.3222
5205480090 | 1.0440 | 1.3222
5209110020 | 1.0309 | 1.3057
5209110025 | 1.0309 | 1.3057
5209110035 | 1.0309 | 1.3057
5209110050 | 1.0309 | 1.3057
5209110090 | 1.0309 | 1.3057
5209120020 | 1.0309 | 1.3057
5209120040 | 1.0309 | 1.3057
5209190020 | 1.0309 | 1.3057
5209190040 | 1.0309 | 1.3057
5209190060 | 1.0309 | 1.3057
5209190090 | 1.0309 | 1.3057
5209210020 | 1.0309 | 1.3057
5209210025 | 1.0309 | 1.3057
5209210035 | 1.0309 | 1.3057
5209210050 | 1.0309 | 1.3057
5209210090 | 1.0309 | 1.3057
5209220020 | 1.0309 | 1.3057
5209220040 | 1.0309 | 1.3057
5209290020 | 1.0309 | 1.3057
5209290040 | 1.0309 | 1.3057
5209290060 | 1.0309 | 1.3057
5209290090 | 1.0309 | 1.3057
5209313000 | 1.0309 | 1.3057
5209316020 | 1.0309 | 1.3057
5209316025 | 1.0309 | 1.3057
5209316035 | 1.0309 | 1.3057
5209316050 | 1.0309 | 1.3057
5209316090 | 1.0309 | 1.3057
5209320020 | 1.0309 | 1.3057
5209320040 | 1.0309 | 1.3057
5209390020 | 1.0309 | 1.3057
5209390040 | 1.0309 | 1.3057
5209390060 | 1.0309 | 1.3057
5209390080 | 1.0309 | 1.3057
5209390090 | 1.0309 | 1.3057
5209413000 | 1.0309 | 1.3057
5209416020 | 1.0309 | 1.3057
5209416040 | 1.0309 | 1.3057
5209430030 | 1.0309 | 1.3057
5209430050 | 1.0309 | 1.3057
5209490020 | 1.0309 | 1.3057
5209490040 | 1.0309 | 1.3057
5209490090 | 1.0309 | 1.3057
5209513000 | 1.0309 | 1.3057
5701901010 | 1.0000 | 1.2665
5701901020 | 1.0000 | 1.2665
5702109020 | 0.8500 | 1.0765
5702505600 | 0.8500 | 1.0765
5802110000 | 1.0309 | 1.3057
5802190000 | 1.0309 | 1.3057
6203322010 | 1.1715 | 1.4837
6203322020 | 1.1715 | 1.4837
6203322030 | 1.1715 | 1.4837
6203322040 | 1.1715 | 1.4837
6203322050 | 1.1715 | 1.4837
6204322010 | 1.1715 | 1.4837
6204322020 | 1.1715 | 1.4837
6204522010 | 1.1988 | 1.5182
6204522020 | 1.1988 | 1.5182
6204522030 | 1.1988 | 1.5182
6204522040 | 1.1988 | 1.5182
6209201000 | 1.0967 | 1.3890
9404901000 | 0.2104 | 0.2665
5207100000 | 0.9474 | 1.1998
5209420020 | 0.9767 | 1.2370
5209420040 | 0.9767 | 1.2370
5209420060 | 0.9767 | 1.2370
5209420080 | 0.9767 | 1.2370
5601102000 | 0.9767 | 1.2370
5601210010 | 0.9767 | 1.2370
5601210090 | 0.9767 | 1.2370
5601220010 | 0.9767 | 1.2370
5601220090 | 0.9767 | 1.2370
5701902010 | 0.9474 | 1.1998
5701902020 | 0.9474 | 1.1998
5702392010 | 0.8053 | 1.0199
5801210000 | 0.9767 | 1.2370
5801221000 | 0.9767 | 1.2370
5801229000 | 0.9767 | 1.2370
5801230000 | 0.9767 | 1.2370
5801240000 | 0.9767 | 1.2370
5801250020 | 0.9767 | 1.2370
6001210000 | 0.9868 | 1.2498
6107110010 | 1.0727 | 1.3585
6107110020 | 1.0727 | 1.3585
6108199010 | 1.0611 | 1.3439
6108310010 | 1.0611 | 1.3439
6108310020 | 1.0611 | 1.3439
6110202005 | 1.1214 | 1.4203
6110202010 | 1.1214 | 1.4203
6110202015 | 1.1214 | 1.4203
6110202020 | 1.1214 | 1.4203
6110202025 | 1.1214 | 1.4203
6110202030 | 1.1214 | 1.4203
6110202035 | 1.1214 | 1.4203
6110202040 | 1.0965 | 1.3887
6110202045 | 1.0965 | 1.3887
6110202067 | 1.0965 | 1.3887
6110202069 | 1.0965 | 1.3887
6110202077 | 1.0965 | 1.3887
6110202079 | 1.0965 | 1.3887
6112390010 | 1.0727 | 1.3585
6115103000 | 0.9868 | 1.2498
6115190010 | 0.9868 | 1.2498
6115956000 | 0.9868 | 1.2498
6115959000 | 0.9868 | 1.2498
6116926410 | 1.0388 | 1.3156
6116926420 | 1.0388 | 1.3156
6116926440 | 1.0388 | 1.3156
6116927450 | 1.0388 | 1.3156
6116927470 | 1.0388 | 1.3156
6116928800 | 1.0388 | 1.3156
6116929400 | 1.0388 | 1.3156
6201121000 | 0.8981 | 1.1374
6201921000 | 0.8779 | 1.1119
6201921500 | 1.0974 | 1.3898
6202121000 | 0.8879 | 1.1245
6203421000 | 1.0616 | 1.3445
6203424003 | 1.0616 | 1.3445
6204621000 | 0.8681 | 1.0995
6204624003 | 1.0616 | 1.3445
6205202036 | 1.0616 | 1.3445
6205202041 | 1.0616 | 1.3445
6205202044 | 1.0616 | 1.3445
6207110000 | 1.0281 | 1.3021
6207210010 | 1.0502 | 1.3301
6207210020 | 1.0502 | 1.3301
6207210030 | 1.0502 | 1.3301
6207210040 | 1.0502 | 1.3301
6207911000 | 1.0852 | 1.3744
6207913010 | 1.0852 | 1.3744
6207913020 | 1.0852 | 1.3744
6208192000 | 1.0852 | 1.3744
6208911010 | 1.0852 | 1.3744
6208911020 | 1.0852 | 1.3744
6208913010 | 1.0852 | 1.3744
6208913020 | 1.0852 | 1.3744
6209202000 | 1.0390 | 1.3159
6211118010 | 1.0852 | 1.3744
6211118020 | 1.0852 | 1.3744
6211128010 | 1.0852 | 1.3744
6211128020 | 1.0852 | 1.3744
6211420025 | 1.1099 | 1.4056
6211420054 | 1.1099 | 1.4056
6211420056 | 1.1099 | 1.4056
6211420070 | 1.1099 | 1.4056
6211420075 | 1.1099 | 1.4056
6211420081 | 1.1099 | 1.4056
6213202000 | 1.0069 | 1.2752
6215900015 | 1.0281 | 1.3021
6302600020 | 0.9966 | 1.2622
6302600030 | 0.9966 | 1.2622
6302910005 | 0.9966 | 1.2622
6302910025 | 0.9966 | 1.2622
6302910035 | 0.9966 | 1.2622
6302910045 | 0.9966 | 1.2622
6302910050 | 0.9966 | 1.2622
6302910060 | 0.9966 | 1.2622
6304111000 | 0.9966 | 1.2622
6304190500 | 0.9966 | 1.2622
6507000000 | 0.3986 | 0.5049
5705002020 | 0.7682 | 0.9729
6109100004 | 1.0022 | 1.2692
6109100007 | 1.0022 | 1.2692
6109100011 | 1.0022 | 1.2692
6109100012 | 1.0022 | 1.2692
6109100014 | 1.0022 | 1.2692
6109100018 | 1.0022 | 1.2692
6109100023 | 1.0022 | 1.2692
6109100027 | 1.0022 | 1.2692
6109100037 | 1.0022 | 1.2692
6109100040 | 1.0022 | 1.2692
6109100045 | 1.0022 | 1.2692
6109100060 | 1.0022 | 1.2692
6109100065 | 1.0022 | 1.2692
6109100070 | 1.0022 | 1.2692
6201122010 | 0.8482 | 1.0742
6201122020 | 0.8482 | 1.0742
6202122010 | 1.0482 | 1.3275
6202122020 | 1.0482 | 1.3275
6208210010 | 1.0026 | 1.2698
6208210020 | 1.0026 | 1.2698
6208210030 | 1.0026 | 1.2698
6302402010 | 0.9412 | 1.1921
5212116010 | 0.8681 | 1.0995
5212116020 | 0.8681 | 1.0995
5212116030 | 0.8681 | 1.0995
5212116040 | 0.8681 | 1.0995
5212116050 | 0.8681 | 1.0995
5212116060 | 0.8681 | 1.0995
5212116070 | 0.8681 | 1.0995
5212116080 | 0.8681 | 1.0995
5212116090 | 0.8681 | 1.0995
5212126010 | 0.8681 | 1.0995
5212126020 | 0.8681 | 1.0995
5212126030 | 0.8681 | 1.0995
5212126040 | 0.8681 | 1.0995
5212126050 | 0.8681 | 1.0995
5212126060 | 0.8681 | 1.0995
5212126070 | 0.8681 | 1.0995
5212126080 | 0.8681 | 1.0995
5212126090 | 0.8681 | 1.0995
5212136010 | 0.8681 | 1.0995
5212136020 | 0.8681 | 1.0995
5212136030 | 0.8681 | 1.0995
5212136040 | 0.8681 | 1.0995
5212136050 | 0.8681 | 1.0995
5212136060 | 0.8681 | 1.0995
5212136070 | 0.8681 | 1.0995
5212136080 | 0.8681 | 1.0995
5212136090 | 0.8681 | 1.0995
5212146010 | 0.8681 | 1.0995
5212146020 | 0.8681 | 1.0995
5212146030 | 0.8681 | 1.0995
5212146090 | 0.8681 | 1.0995
5212156010 | 0.8681 | 1.0995
5212156020 | 0.8681 | 1.0995
5212156030 | 0.8681 | 1.0995
5212156040 | 0.8681 | 1.0995
5212156050 | 0.8681 | 1.0995
5212156060 | 0.8681 | 1.0995
5212156070 | 0.8681 | 1.0995
5212156080 | 0.8681 | 1.0995
5212156090 | 0.8681 | 1.0995
5212216010 | 0.8681 | 1.0995
5212216020 | 0.8681 | 1.0995
5212216030 | 0.8681 | 1.0995
5212216040 | 0.8681 | 1.0995
5212216050 | 0.8681 | 1.0995
5212216060 | 0.8681 | 1.0995
5212216090 | 0.8681 | 1.0995
5212226010 | 0.8681 | 1.0995
5212226020 | 0.8681 | 1.0995
5212226030 | 0.8681 | 1.0995
5212226040 | 0.8681 | 1.0995
5212226050 | 0.8681 | 1.0995
5212226060 | 0.8681 | 1.0995
5212226090 | 0.8681 | 1.0995
5212236010 | 0.8681 | 1.0995
5212236020 | 0.8681 | 1.0995
5212236030 | 0.8681 | 1.0995
5212236040 | 0.8681 | 1.0995
5212236050 | 0.8681 | 1.0995
5212236060 | 0.8681 | 1.0995
5212236090 | 0.8681 | 1.0995
5212246010 | 0.8681 | 1.0995
5212246030 | 0.8681 | 1.0995
5212246040 | 0.8681 | 1.0995
5212246090 | 0.8681 | 1.0995
5212256010 | 0.8681 | 1.0995
5212256020 | 0.8681 | 1.0995
5212256030 | 0.8681 | 1.0995
5212256040 | 0.8681 | 1.0995
5212256050 | 0.8681 | 1.0995
5212256060 | 0.8681 | 1.0995
5212256090 | 0.8681 | 1.0995
5311004010 | 0.8681 | 1.0995
5311004020 | 0.8681 | 1.0995
5601101000 | 0.8681 | 1.0995
5609001000 | 0.8421 | 1.0665
5803002000 | 0.8681 | 1.0995
5803003000 | 0.8681 | 1.0995
5804291000 | 0.8772 | 1.1110
5806101000 | 0.8681 | 1.0995
5806310000 | 0.8681 | 1.0995
5807100510 | 0.8681 | 1.0995
5807102010 | 0.8681 | 1.0995
5807900510 | 0.8681 | 1.0995
5807902010 | 0.8681 | 1.0995
5811002000 | 0.8681 | 1.0995
5901102000 | 0.5643 | 0.7147
5903101000 | 0.4341 | 0.5498
5903201000 | 0.4341 | 0.5498
5903901000 | 0.4341 | 0.5498
5906100000 | 0.4341 | 0.5498
5906911000 | 0.4341 | 0.5498
5906991000 | 0.4341 | 0.5498
5908000000 | 0.7813 | 0.9896
6001910010 | 0.8772 | 1.1110
6001910020 | 0.8772 | 1.1110
6002904000 | 0.7895 | 0.9999
6003201000 | 0.8772 | 1.1110
6003203000 | 0.8772 | 1.1110
6101200010 | 1.0200 | 1.2918
6101200020 | 1.0200 | 1.2918
6103220080 | 0.9747 | 1.2344
6105100010 | 0.9332 | 1.1819
6105100020 | 0.9332 | 1.1819
6105100030 | 0.9332 | 1.1819
6106100010 | 0.9332 | 1.1819
6106100020 | 0.9332 | 1.1819
6106100030 | 0.9332 | 1.1819
6107910090 | 0.9535 | 1.2076
6111203000 | 0.9535 | 1.2076
6111204000 | 0.9535 | 1.2076
6111205000 | 0.9535 | 1.2076
6111206010 | 0.9535 | 1.2076
6111206020 | 0.9535 | 1.2076
6111206030 | 0.9535 | 1.2076
6111206050 | 0.9535 | 1.2076
6111206070 | 0.9535 | 1.2076
6112110010 | 0.9535 | 1.2076
6112110020 | 0.9535 | 1.2076
6112110030 | 0.9535 | 1.2076
6112110040 | 0.9535 | 1.2076
6112110050 | 0.9535 | 1.2076
6112110060 | 0.9535 | 1.2076
6114200005 | 0.9747 | 1.2344
6114200010 | 0.9747 | 1.2344
6116105510 | 0.6464 | 0.8186
6116107510 | 0.6464 | 0.8186
6117106010 | 0.9234 | 1.1694
6117808500 | 0.9234 | 1.1694
6117809510 | 0.9234 | 1.1694
6201922005 | 0.9754 | 1.2354
6201922010 | 0.9754 | 1.2354
6201922051 | 0.9754 | 1.2354
6201922061 | 0.9754 | 1.2354
6202921500 | 0.9865 | 1.2494
6202922010 | 0.9865 | 1.2494
6202922020 | 0.9865 | 1.2494
6202922061 | 0.9865 | 1.2494
6202922071 | 0.9865 | 1.2494
6203191010 | 0.9865 | 1.2494
6203191020 | 0.9865 | 1.2494
6203191030 | 0.9865 | 1.2494
6203223010 | 0.9865 | 1.2494
6203223015 | 0.9865 | 1.2494
6203223020 | 0.9865 | 1.2494
6203223030 | 0.9865 | 1.2494
6203223050 | 0.9865 | 1.2494
6203223060 | 0.9865 | 1.2494
6203422010 | 0.9436 | 1.1951
6203422025 | 0.9436 | 1.1951
6203422050 | 0.9436 | 1.1951
6203422090 | 0.9436 | 1.1951
6203424016 | 0.9436 | 1.1951
6203424041 | 0.9436 | 1.1951
6203424046 | 0.9436 | 1.1951
6204120010 | 0.9865 | 1.2494
6204120020 | 0.9865 | 1.2494
6204120030 | 0.9865 | 1.2494
6204120040 | 0.9865 | 1.2494
6204223010 | 0.9865 | 1.2494
6204223030 | 0.9865 | 1.2494
6204223040 | 0.9865 | 1.2494
6204223050 | 0.9865 | 1.2494
6204223060 | 0.9865 | 1.2494
6204223065 | 0.9865 | 1.2494
6204223070 | 0.9865 | 1.2494
6204322030 | 0.9865 | 1.2494
6204322040 | 0.9865 | 1.2494
6204522070 | 1.0095 | 1.2785
6204522080 | 1.0095 | 1.2785
6204622010 | 0.9436 | 1.1951
6204622025 | 0.9436 | 1.1951
6204622050 | 0.9436 | 1.1951
6204624021 | 0.9436 | 1.1951
6204624046 | 0.9436 | 1.1951
6204624051 | 0.9436 | 1.1951
6204624056 | 0.9335 | 1.1823
6204624061 | 0.9335 | 1.1823
6204624066 | 0.9335 | 1.1823
6205202003 | 0.9436 | 1.1951
6205202016 | 0.9436 | 1.1951
6205202021 | 0.9436 | 1.1951
6205202026 | 0.9436 | 1.1951
6205202031 | 0.9436 | 1.1951
6205202047 | 0.9436 | 1.1951
6205202051 | 0.9436 | 1.1951
6205202056 | 0.9436 | 1.1951
6205202061 | 0.9436 | 1.1951
6205202066 | 0.9436 | 1.1951
6205202071 | 0.9436 | 1.1951
6205202076 | 0.9436 | 1.1951
6206303003 | 0.9436 | 1.1951
6206303011 | 0.9436 | 1.1951
6206303021 | 0.9436 | 1.1951
6206303031 | 0.9436 | 1.1951
6206303041 | 0.9436 | 1.1951
6206303051 | 0.9436 | 1.1951
6206303061 | 0.9436 | 1.1951
6209203000 | 0.9236 | 1.1697
6209205030 | 0.9236 | 1.1697
6209205035 | 0.9236 | 1.1697
6209205045 | 0.9236 | 1.1697
6209205050 | 0.9236 | 1.1697
6211200410 | 0.7717 | 0.9773
6211200430 | 0.7717 | 0.9773
6211320010 | 0.9865 | 1.2494
6211320015 | 0.9865 | 1.2494
6211320025 | 0.9865 | 1.2494
6211420010 | 0.9865 | 1.2494
6211420020 | 0.9865 | 1.2494
6211420040 | 0.9865 | 1.2494
6211420060 | 0.9865 | 1.2494
6212105010 | 0.9138 | 1.1574
6212109010 | 0.9138 | 1.1574
6216001720 | 0.6397 | 0.8102
6216002410 | 0.6605 | 0.8366
6216002910 | 0.6605 | 0.8366
6217109510 | 0.9646 | 1.2217
6217909003 | 0.9646 | 1.2217
6217909025 | 0.9646 | 1.2217
6217909050 | 0.9646 | 1.2217
6217909075 | 0.9646 | 1.2217
6303191100 | 0.8859 | 1.1220
6304910020 | 0.8859 | 1.1220
6304920000 | 0.8859 | 1.1220
6002404000 | 0.7401 | 0.9374
6102200010 | 0.9562 | 1.2111
6102200020 | 0.9562 | 1.2111
6103220010 | 0.9137 | 1.1573
6112490010 | 0.8939 | 1.1321
6203424051 | 0.8752 | 1.1084
6203424056 | 0.8752 | 1.1084
6203424061 | 0.8752 | 1.1084
6204423030 | 0.9043 | 1.1453
6204423040 | 0.9043 | 1.1453
6204423050 | 0.9043 | 1.1453
6204423060 | 0.9043 | 1.1453
6211207810 | 0.9249 | 1.1714
6211320030 | 0.9249 | 1.1714
6211320040 | 0.9249 | 1.1714
6211320050 | 0.9249 | 1.1714
6211320060 | 0.9249 | 1.1714
6211320070 | 0.9249 | 1.1714
6211320075 | 0.9249 | 1.1714
6211320081 | 0.9249 | 1.1714
6214900010 | 0.8567 | 1.0850
6301300010 | 0.8305 | 1.0518
6301300020 | 0.8305 | 1.0518
6302512000 | 0.8305 | 1.0518
5206110000 | 0.7368 | 0.9332
5206120000 | 0.7368 | 0.9332
5206130000 | 0.7368 | 0.9332
5206140000 | 0.7368 | 0.9332
5206150000 | 0.7368 | 0.9332
5206210000 | 0.7692 | 0.9742
5206220000 | 0.7692 | 0.9742
5206230000 | 0.7692 | 0.9742
5206240000 | 0.7692 | 0.9742
5206250000 | 0.7692 | 0.9742
5206310000 | 0.7368 | 0.9332
5206320000 | 0.7368 | 0.9332
5206330000 | 0.7368 | 0.9332
5206340000 | 0.7368 | 0.9332
5206350000 | 0.7368 | 0.9332
5206410000 | 0.7692 | 0.9742
5206420000 | 0.7692 | 0.9742
5206430000 | 0.7692 | 0.9742
5206440000 | 0.7692 | 0.9742
5206450000 | 0.7692 | 0.9742
5801260010 | 0.7596 | 0.9621
5801260020 | 0.7596 | 0.9621
5810910010 | 0.7596 | 0.9621
5810910020 | 0.7596 | 0.9621
5909001000 | 0.6837 | 0.8659
5910001010 | 0.3798 | 0.4810
5910001020 | 0.3798 | 0.4810
5910001030 | 0.3798 | 0.4810
5910001060 | 0.3798 | 0.4810
5910001070 | 0.3798 | 0.4810
5910001090 | 0.6837 | 0.8659
5910009000 | 0.5697 | 0.7216
6006219020 | 0.7675 | 0.9721
6006219080 | 0.7675 | 0.9721
6006229020 | 0.7675 | 0.9721
6006229080 | 0.7675 | 0.9721
6006239020 | 0.7675 | 0.9721
6006239080 | 0.7675 | 0.9721
6006249020 | 0.7675 | 0.9721
6006249080 | 0.7675 | 0.9721
6103106010 | 0.8528 | 1.0801
6103106015 | 0.8528 | 1.0801
6103106030 | 0.8528 | 1.0801
6103220070 | 0.8528 | 1.0801
6103320000 | 0.8722 | 1.1047
6103421020 | 0.8343 | 1.0566
6103421035 | 0.8343 | 1.0566
6103421040 | 0.8343 | 1.0566
6103421050 | 0.8343 | 1.0566
6103421065 | 0.8343 | 1.0566
6103421070 | 0.8343 | 1.0566
6103422010 | 0.8343 | 1.0566
6103422015 | 0.8343 | 1.0566
6103422025 | 0.8343 | 1.0566
6104196010 | 0.8722 | 1.1047
6104196020 | 0.8722 | 1.1047
6104196030 | 0.8722 | 1.1047
6104196040 | 0.8722 | 1.1047
6104220010 | 0.8528 | 1.0801
6104220030 | 0.8528 | 1.0801
6104220040 | 0.8528 | 1.0801
6104220050 | 0.8528 | 1.0801
6104220060 | 0.8528 | 1.0801
6104220090 | 0.8528 | 1.0801
6104320000 | 0.8722 | 1.1047
6104420010 | 0.8528 | 1.0801
6104420020 | 0.8528 | 1.0801
6104520010 | 0.8822 | 1.1173
6104520020 | 0.8822 | 1.1173
6104621010 | 0.7509 | 0.9510
6104621020 | 0.8343 | 1.0566
6104621030 | 0.8343 | 1.0566
6104622011 | 0.8343 | 1.0566
6104622021 | 0.8343 | 1.0566
6104622028 | 0.8343 | 1.0566
6104622030 | 0.8343 | 1.0566
6104622050 | 0.8343 | 1.0566
6104622060 | 0.8343 | 1.0566
6104632006 | 0.8343 | 1.0566
6104632011 | 0.8343 | 1.0566
6104632021 | 0.8343 | 1.0566
6107210010 | 0.8343 | 1.0566
6112202010 | 0.8722 | 1.1047
6113009015 | 0.3489 | 0.4419
6113009020 | 0.3489 | 0.4419
6113009038 | 0.3489 | 0.4419
6113009042 | 0.3489 | 0.4419
6113009055 | 0.3489 | 0.4419
6113009060 | 0.3489 | 0.4419
6113009074 | 0.3489 | 0.4419
6113009082 | 0.3489 | 0.4419
6114200015 | 0.8528 | 1.0801
6114200020 | 0.8528 | 1.0801
6114200035 | 0.8528 | 1.0801
6114200040 | 0.8528 | 1.0801
6114200044 | 0.8528 | 1.0801
6114200046 | 0.8528 | 1.0801
6114200048 | 0.8528 | 1.0801
6114200052 | 0.8528 | 1.0801
6114200055 | 0.8528 | 1.0801
6114200060 | 0.8528 | 1.0801
6115200030 | 0.7675 | 0.9721
6115209030 | 0.7675 | 0.9721
6115309030 | 0.7675 | 0.9721
6116920500 | 0.8079 | 1.0233
6116920800 | 0.8079 | 1.0233
6211420030 | 0.8632 | 1.0933
6216002110 | 0.5780 | 0.7320
6302215010 | 0.7751 | 0.9817
6302215020 | 0.7751 | 0.9817
6302215030 | 0.7751 | 0.9817
6302215040 | 0.7751 | 0.9817
6302215050 | 0.7751 | 0.9817
6302219010 | 0.7751 | 0.9817
6302219020 | 0.7751 | 0.9817
6302219030 | 0.7751 | 0.9817
6302219040 | 0.7751 | 0.9817
6302219050 | 0.7751 | 0.9817
6302315010 | 0.7751 | 0.9817
6302315020 | 0.7751 | 0.9817
6302315030 | 0.7751 | 0.9817
6302315040 | 0.7751 | 0.9817
6302315050 | 0.7751 | 0.9817
6302319010 | 0.7751 | 0.9817
6302319020 | 0.7751 | 0.9817
6302319030 | 0.7751 | 0.9817
6302319040 | 0.7751 | 0.9817
6302319050 | 0.7751 | 0.9817
6302514000 | 0.7751 | 0.9817
5211420020 | 0.7054 | 0.8934
5211420040 | 0.7054 | 0.8934
5212246020 | 0.7054 | 0.8934
6005210000 | 0.7127 | 0.9027
6005220000 | 0.7127 | 0.9027
6005230000 | 0.7127 | 0.9027
6005240000 | 0.7127 | 0.9027
6103220020 | 0.7919 | 1.0030
6103220030 | 0.7919 | 1.0030
6103220040 | 0.7919 | 1.0030
6103220050 | 0.7919 | 1.0030
6201122050 | 0.6486 | 0.8215
6201122060 | 0.6486 | 0.8215
6202122050 | 0.8016 | 1.0152
6202122060 | 0.8016 | 1.0152
6211201510 | 0.7615 | 0.9644
6211201530 | 0.7615 | 0.9644
6211201540 | 0.7615 | 0.9644
6211201550 | 0.7615 | 0.9644
6211201560 | 0.7615 | 0.9644
6211202810 | 0.8016 | 1.0152
6211203810 | 0.8016 | 1.0152
6211204815 | 0.8016 | 1.0152
6211205810 | 0.8016 | 1.0152
6211206810 | 0.8016 | 1.0152
6211320003 | 0.6412 | 0.8121
6211320007 | 0.8016 | 1.0152
6211420003 | 0.6412 | 0.8121
6211420007 | 0.8016 | 1.0152
5204190000 | 0.6316 | 0.7999
5207900000 | 0.6316 | 0.7999
5210114020 | 0.6511 | 0.8246
5210114040 | 0.6511 | 0.8246
5210114090 | 0.6511 | 0.8246
5210116020 | 0.6511 | 0.8246
5210116040 | 0.6511 | 0.8246
5210116060 | 0.6511 | 0.8246
5210116090 | 0.6511 | 0.8246
5210118020 | 0.6511 | 0.8246
5210118090 | 0.6511 | 0.8246
5210191000 | 0.6511 | 0.8246
5210192020 | 0.6511 | 0.8246
5210192090 | 0.6511 | 0.8246
5210194020 | 0.6511 | 0.8246
5210194090 | 0.6511 | 0.8246
5210196020 | 0.6511 | 0.8246
5210196090 | 0.6511 | 0.8246
5210198020 | 0.6511 | 0.8246
5210198090 | 0.6511 | 0.8246
5210214020 | 0.6511 | 0.8246
5210214040 | 0.6511 | 0.8246
5210214090 | 0.6511 | 0.8246
5210216020 | 0.6511 | 0.8246
5210216040 | 0.6511 | 0.8246
5210216060 | 0.6511 | 0.8246
5210216090 | 0.6511 | 0.8246
5210218020 | 0.6511 | 0.8246
5210218090 | 0.6511 | 0.8246
5210291000 | 0.6511 | 0.8246
5210292020 | 0.6511 | 0.8246
5210292090 | 0.6511 | 0.8246
5210294020 | 0.6511 | 0.8246
5210294090 | 0.6511 | 0.8246
5210296020 | 0.6511 | 0.8246
5210296090 | 0.6511 | 0.8246
5210298020 | 0.6511 | 0.8246
5210298090 | 0.6511 | 0.8246
5210314020 | 0.6511 | 0.8246
5210314040 | 0.6511 | 0.8246
5210314090 | 0.6511 | 0.8246
5210316020 | 0.6511 | 0.8246
5210316040 | 0.6511 | 0.8246
5210316060 | 0.6511 | 0.8246
5210316090 | 0.6511 | 0.8246
5210318020 | 0.6511 | 0.8246
5210318090 | 0.6511 | 0.8246
5210320000 | 0.6511 | 0.8246
5210392020 | 0.6511 | 0.8246
5210392090 | 0.6511 | 0.8246
5210394020 | 0.6511 | 0.8246
5210394090 | 0.6511 | 0.8246
5210396020 | 0.6511 | 0.8246
5210396090 | 0.6511 | 0.8246
5210398020 | 0.6511 | 0.8246
5210398090 | 0.6511 | 0.8246
5210414000 | 0.6511 | 0.8246
5210416000 | 0.6511 | 0.8246
5210418000 | 0.6511 | 0.8246
5210491000 | 0.6511 | 0.8246
5210492000 | 0.6511 | 0.8246
5210494010 | 0.6511 | 0.8246
5210494020 | 0.6511 | 0.8246
5210494090 | 0.6511 | 0.8246
5210496010 | 0.6511 | 0.8246
5210496020 | 0.6511 | 0.8246
5210496090 | 0.6511 | 0.8246
5210498020 | 0.6511 | 0.8246
5210498090 | 0.6511 | 0.8246
5210514020 | 0.6511 | 0.8246
5210514040 | 0.6511 | 0.8246
5210514090 | 0.6511 | 0.8246
5210516020 | 0.6511 | 0.8246
5210516040 | 0.6511 | 0.8246
5210516060 | 0.6511 | 0.8246
5210516090 | 0.6511 | 0.8246
5210518020 | 0.6511 | 0.8246
5210518090 | 0.6511 | 0.8246
5210591000 | 0.6511 | 0.8246
5210592020 | 0.6511 | 0.8246
5210592090 | 0.6511 | 0.8246
5210594020 | 0.6511 | 0.8246
5210594090 | 0.6511 | 0.8246
5210596020 | 0.6511 | 0.8246
5210596090 | 0.6511 | 0.8246
5210598020 | 0.6511 | 0.8246
5210598090 | 0.6511 | 0.8246
5211110020 | 0.6511 | 0.8246
5211110025 | 0.6511 | 0.8246
5211110035 | 0.6511 | 0.8246
5211110050 | 0.6511 | 0.8246
5211110090 | 0.6511 | 0.8246
5211120020 | 0.6511 | 0.8246
5211120040 | 0.6511 | 0.8246
5211190020 | 0.6511 | 0.8246
5211190040 | 0.6511 | 0.8246
5211190060 | 0.6511 | 0.8246
5211190090 | 0.6511 | 0.8246
5211202120 | 0.6511 | 0.8246
5211202125 | 0.6511 | 0.8246
5211202135 | 0.6511 | 0.8246
5211202150 | 0.6511 | 0.8246
5211202190 | 0.6511 | 0.8246
5211202220 | 0.6511 | 0.8246
5211202240 | 0.6511 | 0.8246
5211202920 | 0.6511 | 0.8246
5211202940 | 0.6511 | 0.8246
5211202960 | 0.6511 | 0.8246
5211202990 | 0.6511 | 0.8246
5211310020 | 0.6511 | 0.8246
5211310025 | 0.6511 | 0.8246
5211310035 | 0.6511 | 0.8246
5211310050 | 0.6511 | 0.8246
5211310090 | 0.6511 | 0.8246
5211320020 | 0.6511 | 0.8246
5211320040 | 0.6511 | 0.8246
5211390020 | 0.6511 | 0.8246
5211390040 | 0.6511 | 0.8246
5211390060 | 0.6511 | 0.8246
5211390090 | 0.6511 | 0.8246
5211410020 | 0.6511 | 0.8246
5211410040 | 0.6511 | 0.8246
5211420060 | 0.6511 | 0.8246
5211420080 | 0.6511 | 0.8246
5211430030 | 0.6511 | 0.8246
5211430050 | 0.6511 | 0.8246
5211490020 | 0.6511 | 0.8246
5211490090 | 0.6511 | 0.8246
5211510020 | 0.6511 | 0.8246
5211510030 | 0.6511 | 0.8246
5211510050 | 0.6511 | 0.8246
5211510090 | 0.6511 | 0.8246
5211520020 | 0.6511 | 0.8246
5211520040 | 0.6511 | 0.8246
5211590015 | 0.6511 | 0.8246
5211590020 | 0.6511 | 0.8246
5211590025 | 0.6511 | 0.8246
5211590040 | 0.6511 | 0.8246
5211590060 | 0.6511 | 0.8246
5211590090 | 0.6511 | 0.8246
5608902300 | 0.6316 | 0.7999
5608902700 | 0.6316 | 0.7999
6103398010 | 0.7476 | 0.9468
6104220080 | 0.7310 | 0.9258
6104622006 | 0.7151 | 0.9057
6104622016 | 0.7151 | 0.9057
6104622026 | 0.7151 | 0.9057
6104632016 | 0.7151 | 0.9057
6104632050 | 0.7151 | 0.9057
6107210020 | 0.7151 | 0.9057
6110201010 | 0.7476 | 0.9468
6110201020 | 0.7476 | 0.9468
6110201022 | 0.7476 | 0.9468
6110201024 | 0.7476 | 0.9468
6110201026 | 0.7476 | 0.9468
6110201029 | 0.7476 | 0.9468
6110201031 | 0.7476 | 0.9468
6110201033 | 0.7476 | 0.9468
6203422005 | 0.7077 | 0.8963
6204622005 | 0.7077 | 0.8963
6212200010 | 0.6854 | 0.8680
6212300010 | 0.6854 | 0.8680
5212111010 | 0.5845 | 0.7403
5212111020 | 0.6231 | 0.7891
5212121010 | 0.5845 | 0.7403
5212121020 | 0.6231 | 0.7891
5212131010 | 0.5845 | 0.7403
5212131020 | 0.6231 | 0.7891
5212141010 | 0.5845 | 0.7403
5212141020 | 0.6231 | 0.7891
5212151010 | 0.5845 | 0.7403
5212151020 | 0.6231 | 0.7891
5212211010 | 0.5845 | 0.7403
5212211020 | 0.6231 | 0.7891
5212221010 | 0.5845 | 0.7403
5212221020 | 0.6231 | 0.7891
5212231010 | 0.5845 | 0.7403
5212231020 | 0.6231 | 0.7891
5212241010 | 0.5845 | 0.7403
5212241020 | 0.6231 | 0.7891
5212251010 | 0.5845 | 0.7403
5212251020 | 0.6231 | 0.7891
6116104810 | 0.4444 | 0.5628
6203321000 | 0.6782 | 0.8590
6204321000 | 0.6782 | 0.8590
6204422000 | 0.6632 | 0.8399
6206302000 | 0.6488 | 0.8216
6211201520 | 0.6443 | 0.8160
6303910010 | 0.6090 | 0.7713
6303910020 | 0.6090 | 0.7713
5309213005 | 0.5426 | 0.6872
5309213010 | 0.5426 | 0.6872
5309213015 | 0.5426 | 0.6872
5309213020 | 0.5426 | 0.6872
5309293005 | 0.5426 | 0.6872
5309293010 | 0.5426 | 0.6872
5309293015 | 0.5426 | 0.6872
5309293020 | 0.5426 | 0.6872
5311003005 | 0.5426 | 0.6872
5311003010 | 0.5426 | 0.6872
5311003015 | 0.5426 | 0.6872
5311003020 | 0.5426 | 0.6872
5407810010 | 0.5426 | 0.6872
5407810020 | 0.5426 | 0.6872
5407810030 | 0.5426 | 0.6872
5407810040 | 0.5426 | 0.6872
5407810090 | 0.5426 | 0.6872
5407820010 | 0.5426 | 0.6872
5407820020 | 0.5426 | 0.6872
5407820030 | 0.5426 | 0.6872
5407820040 | 0.5426 | 0.6872
5407820090 | 0.5426 | 0.6872
5407830010 | 0.5426 | 0.6872
5407830020 | 0.5426 | 0.6872
5407830030 | 0.5426 | 0.6872
5407830040 | 0.5426 | 0.6872
5407830090 | 0.5426 | 0.6872
5407840010 | 0.5426 | 0.6872
5407840020 | 0.5426 | 0.6872
5407840030 | 0.5426 | 0.6872
5407840040 | 0.5426 | 0.6872
5407840090 | 0.5426 | 0.6872
5509620000 | 0.5263 | 0.6666
5509920000 | 0.5263 | 0.6666
5603143000 | 0.2713 | 0.3436
5604100000 | 0.2632 | 0.3333
5605009000 | 0.1579 | 0.2000
5909002000 | 0.4883 | 0.6185
5911201000 | 0.4341 | 0.5498
5911310010 | 0.4341 | 0.5498
5911310020 | 0.4341 | 0.5498
5911310030 | 0.4341 | 0.5498
5911310080 | 0.4341 | 0.5498
5911320010 | 0.4341 | 0.5498
5911320020 | 0.4341 | 0.5498
5911320030 | 0.4341 | 0.5498
5911320080 | 0.4341 | 0.5498
5911400000 | 0.5426 | 0.6872
5911900000 | 0.5426 | 0.6872
6104292049 | 0.6092 | 0.7715
6113001005 | 0.1246 | 0.1578
6113001010 | 0.1246 | 0.1578
6113001012 | 0.1246 | 0.1578
6210207000 | 0.1809 | 0.2291
6210309020 | 0.4220 | 0.5345
6210405020 | 0.4316 | 0.5466
6210405040 | 0.4316 | 0.5466
6210405050 | 0.4316 | 0.5466
6210507000 | 0.4316 | 0.5466
6211128030 | 0.6029 | 0.7635
6302221010 | 0.5537 | 0.7012
6302221030 | 0.5537 | 0.7012
6302321010 | 0.5537 | 0.7012
6302321030 | 0.5537 | 0.7012
6302322010 | 0.5537 | 0.7012
6302322030 | 0.5537 | 0.7012
6302511000 | 0.5537 | 0.7012
6302513000 | 0.5537 | 0.7012
6302593020 | 0.5537 | 0.7012
6101909010 | 0.5737 | 0.7266
6102909005 | 0.5737 | 0.7266
6103109010 | 0.5482 | 0.6944
6103109020 | 0.5482 | 0.6944
6103109030 | 0.5482 | 0.6944
6103292058 | 0.5482 | 0.6944
6103498010 | 0.5482 | 0.6944
6103498034 | 0.5482 | 0.6944
6104198010 | 0.5607 | 0.7101
6104198020 | 0.5607 | 0.7101
6104198030 | 0.5607 | 0.7101
6104198040 | 0.5607 | 0.7101
6104292010 | 0.5482 | 0.6944
6104292022 | 0.5482 | 0.6944
6104292034 | 0.5482 | 0.6944
6104292065 | 0.5482 | 0.6944
6104292081 | 0.5482 | 0.6944
6104392010 | 0.5607 | 0.7101
6104499010 | 0.5482 | 0.6944
6104598010 | 0.5672 | 0.7183
6104698010 | 0.5482 | 0.6944
6104698022 | 0.5482 | 0.6944
6105908010 | 0.5249 | 0.6648
6106902510 | 0.5249 | 0.6648
6106903010 | 0.5249 | 0.6648
6110909010 | 0.5607 | 0.7101
6110909026 | 0.5607 | 0.7101
6110909044 | 0.5607 | 0.7101
6110909046 | 0.5607 | 0.7101
6110909067 | 0.5607 | 0.7101
6110909069 | 0.5607 | 0.7101
6110909071 | 0.5607 | 0.7101
6110909073 | 0.5607 | 0.7101
6114909045 | 0.5482 | 0.6944
6201199010 | 0.5613 | 0.7109
6201999010 | 0.5487 | 0.6949
6202199010 | 0.5678 | 0.7192
6202999011 | 0.5549 | 0.7028
6203199010 | 0.5549 | 0.7028
6203199020 | 0.5549 | 0.7028
6203199030 | 0.5549 | 0.7028
6203399010 | 0.5549 | 0.7028
6203498020 | 0.5308 | 0.6723
6204198010 | 0.5549 | 0.7028
6204198020 | 0.5549 | 0.7028
6204198030 | 0.5549 | 0.7028
6204198040 | 0.5549 | 0.7028
6204294010 | 0.5549 | 0.7028
6204294022 | 0.5549 | 0.7028
6204294034 | 0.5549 | 0.7028
6204294070 | 0.5549 | 0.7028
6204294082 | 0.5549 | 0.7028
6204398010 | 0.5549 | 0.7028
6204495010 | 0.5549 | 0.7028
6204594010 | 0.5678 | 0.7192
6204696010 | 0.5308 | 0.6723
6204699010 | 0.5308 | 0.6723
6205903010 | 0.5308 | 0.6723
6205904010 | 0.5308 | 0.6723
6206100010 | 0.5308 | 0.6723
6206900010 | 0.5308 | 0.6723
6212900090 | 0.4112 | 0.5208
5514110020 | 0.4341 | 0.5498
5514110030 | 0.4341 | 0.5498
5514110050 | 0.4341 | 0.5498
5514110090 | 0.4341 | 0.5498
5514120020 | 0.4341 | 0.5498
5514120040 | 0.4341 | 0.5498
5514191020 | 0.4341 | 0.5498
5514191040 | 0.4341 | 0.5498
5514191090 | 0.4341 | 0.5498
5514199010 | 0.4341 | 0.5498
5514199020 | 0.4341 | 0.5498
5514199030 | 0.4341 | 0.5498
5514199040 | 0.4341 | 0.5498
5514199090 | 0.4341 | 0.5498
5514210020 | 0.4341 | 0.5498
5514210030 | 0.4341 | 0.5498
5514210050 | 0.4341 | 0.5498
5514210090 | 0.4341 | 0.5498
5514220020 | 0.4341 | 0.5498
5514220040 | 0.4341 | 0.5498
5514230020 | 0.4341 | 0.5498
5514230040 | 0.4341 | 0.5498
5514230090 | 0.4341 | 0.5498
5514290010 | 0.4341 | 0.5498
5514290020 | 0.4341 | 0.5498
5514290030 | 0.4341 | 0.5498
5514290040 | 0.4341 | 0.5498
5514290090 | 0.4341 | 0.5498
5514303100 | 0.4341 | 0.5498
5514303210 | 0.4341 | 0.5498
5514303215 | 0.4341 | 0.5498
5514303280 | 0.4341 | 0.5498
5514303310 | 0.4341 | 0.5498
5514303390 | 0.4341 | 0.5498
5514303910 | 0.4341 | 0.5498
5514303920 | 0.4341 | 0.5498
5514303990 | 0.4341 | 0.5498
5514410020 | 0.4341 | 0.5498
5514410030 | 0.4341 | 0.5498
5514410050 | 0.4341 | 0.5498
5514410090 | 0.4341 | 0.5498
5514420020 | 0.4341 | 0.5498
5514420040 | 0.4341 | 0.5498
5514430020 | 0.4341 | 0.5498
5514430040 | 0.4341 | 0.5498
5514430090 | 0.4341 | 0.5498
5514490010 | 0.4341 | 0.5498
5514490020 | 0.4341 | 0.5498
5514490030 | 0.4341 | 0.5498
5514490040 | 0.4341 | 0.5498
5514490090 | 0.4341 | 0.5498
5602109090 | 0.4341 | 0.5498
5602290000 | 0.4341 | 0.5498
5604909000 | 0.2105 | 0.2666
5606000010 | 0.1263 | 0.1600
5606000090 | 0.1263 | 0.1600
5703900000 | 0.3615 | 0.4579
5802300030 | 0.4341 | 0.5498
5804101000 | 0.4341 | 0.5498
5808900010 | 0.4341 | 0.5498
6101909030 | 0.5100 | 0.6459
6104292077 | 0.4873 | 0.6172
6104292079 | 0.4873 | 0.6172
6106202020 | 0.4666 | 0.5909
6107120010 | 0.4767 | 0.6038
6107120020 | 0.4767 | 0.6038
6115100500 | 0.4386 | 0.5555
6116999510 | 0.4617 | 0.5847
6204431000 | 0.4823 | 0.6108
6204632000 | 0.4718 | 0.5976
6207199030 | 0.4569 | 0.5787
6210509050 | 0.1480 | 0.1874
6210509060 | 0.1480 | 0.1874
6210509070 | 0.1480 | 0.1874
6210509090 | 0.1480 | 0.1874
6211200810 | 0.3858 | 0.4887
6211200820 | 0.3858 | 0.4887
6213900700 | 0.4475 | 0.5668
6213901000 | 0.4475 | 0.5668
6302931000 | 0.4429 | 0.5610
6302932000 | 0.4429 | 0.5610
9404909570 | 0.2658 | 0.3366
5510300000 | 0.3684 | 0.4666
5516410010 | 0.3798 | 0.4810
5516410022 | 0.3798 | 0.4810
5516410027 | 0.3798 | 0.4810
5516410030 | 0.3798 | 0.4810
5516410040 | 0.3798 | 0.4810
5516410050 | 0.3798 | 0.4810
5516410060 | 0.3798 | 0.4810
5516410070 | 0.3798 | 0.4810
5516410090 | 0.3798 | 0.4810
5516420010 | 0.3798 | 0.4810
5516420022 | 0.3798 | 0.4810
5516420027 | 0.3798 | 0.4810
5516420030 | 0.3798 | 0.4810
5516420040 | 0.3798 | 0.4810
5516420050 | 0.3798 | 0.4810
5516420060 | 0.3798 | 0.4810
5516420070 | 0.3798 | 0.4810
5516420090 | 0.3798 | 0.4810
5516430015 | 0.3798 | 0.4810
5516430020 | 0.3798 | 0.4810
5516430035 | 0.3798 | 0.4810
5516430080 | 0.3798 | 0.4810
5516440010 | 0.3798 | 0.4810
5516440022 | 0.3798 | 0.4810
5516440027 | 0.3798 | 0.4810
5516440030 | 0.3798 | 0.4810
5516440040 | 0.3798 | 0.4810
5516440050 | 0.3798 | 0.4810
5516440060 | 0.3798 | 0.4810
5516440070 | 0.3798 | 0.4810
5516440090 | 0.3798 | 0.4810
6102909015 | 0.4462 | 0.5652
6203432500 | 0.4128 | 0.5229
6203491500 | 0.4128 | 0.5229
6204442000 | 0.4316 | 0.5466
6204531000 | 0.4416 | 0.5593
6204591000 | 0.4416 | 0.5593
6205301000 | 0.4128 | 0.5229
6206401000 | 0.4128 | 0.5229
6211201555 | 0.4100 | 0.5193
6302221020 | 0.3876 | 0.4909
6302221040 | 0.3876 | 0.4909
6302221050 | 0.3876 | 0.4909
6302221060 | 0.3876 | 0.4909
6302222010 | 0.3876 | 0.4909
6302222020 | 0.3876 | 0.4909
6302222030 | 0.3876 | 0.4909
6302321020 | 0.3876 | 0.4909
6302321040 | 0.3876 | 0.4909
6302321050 | 0.3876 | 0.4909
6302321060 | 0.3876 | 0.4909
6302322020 | 0.3876 | 0.4909
6302322040 | 0.3876 | 0.4909
6302322050 | 0.3876 | 0.4909
6302322060 | 0.3876 | 0.4909
6304191500 | 0.3876 | 0.4909
6304192000 | 0.3876 | 0.4909
5513110020 | 0.3581 | 0.4535
5513110040 | 0.3581 | 0.4535
5513110060 | 0.3581 | 0.4535
5513110090 | 0.3581 | 0.4535
5513120000 | 0.3581 | 0.4535
5513130020 | 0.3581 | 0.4535
5513130040 | 0.3581 | 0.4535
5513130090 | 0.3581 | 0.4535
5513190010 | 0.3581 | 0.4535
5513190020 | 0.3581 | 0.4535
5513190030 | 0.3581 | 0.4535
5513190040 | 0.3581 | 0.4535
5513190050 | 0.3581 | 0.4535
5513190060 | 0.3581 | 0.4535
5513190090 | 0.3581 | 0.4535
5513210020 | 0.3581 | 0.4535
5513210040 | 0.3581 | 0.4535
5513210060 | 0.3581 | 0.4535
5513210090 | 0.3581 | 0.4535
5513230121 | 0.3581 | 0.4535
5513230141 | 0.3581 | 0.4535
5513230191 | 0.3581 | 0.4535
5513290010 | 0.3581 | 0.4535
5513290020 | 0.3581 | 0.4535
5513290030 | 0.3581 | 0.4535
5513290040 | 0.3581 | 0.4535
5513290050 | 0.3581 | 0.4535
5513290060 | 0.3581 | 0.4535
5513290090 | 0.3581 | 0.4535
5513310000 | 0.3581 | 0.4535
5513390010 | 0.3581 | 0.4535
5513390011 | 0.3581 | 0.4535
5513390015 | 0.3581 | 0.4535
5513390090 | 0.3581 | 0.4535
5513390091 | 0.3581 | 0.4535
5513410020 | 0.3581 | 0.4535
5513410040 | 0.3581 | 0.4535
5513410060 | 0.3581 | 0.4535
5513410090 | 0.3581 | 0.4535
5513491000 | 0.3581 | 0.4535
5513492020 | 0.3581 | 0.4535
5513492040 | 0.3581 | 0.4535
5513492090 | 0.3581 | 0.4535
5513499010 | 0.3581 | 0.4535
5513499020 | 0.3581 | 0.4535
5513499030 | 0.3581 | 0.4535
5513499040 | 0.3581 | 0.4535
5513499050 | 0.3581 | 0.4535
5513499060 | 0.3581 | 0.4535
5513499090 | 0.3581 | 0.4535
5509530030 | 0.3158 | 0.3999
5509530060 | 0.3158 | 0.3999
5511200000 | 0.3158 | 0.3999
5601300000 | 0.3256 | 0.4123
5602909000 | 0.3256 | 0.4123
5603941090 | 0.3256 | 0.4123
5603943000 | 0.1628 | 0.2062
5603949010 | 0.0326 | 0.0412
5608903000 | 0.3158 | 0.3999
5802200090 | 0.3256 | 0.4123
5803005000 | 0.3256 | 0.4123
5804300020 | 0.3256 | 0.4123
5810100000 | 0.3256 | 0.4123
5911900040 | 0.3158 | 0.3999
6004100010 | 0.2961 | 0.3750
6004100025 | 0.2961 | 0.3750
6004100085 | 0.2961 | 0.3750
6004902010 | 0.2961 | 0.3750
6004902025 | 0.2961 | 0.3750
6004902085 | 0.2961 | 0.3750
6004909000 | 0.2961 | 0.3750
6006310020 | 0.3289 | 0.4166
6006310040 | 0.3289 | 0.4166
6006310060 | 0.3289 | 0.4166
6006310080 | 0.3289 | 0.4166
6006320020 | 0.3289 | 0.4166
6006320040 | 0.3289 | 0.4166
6006320060 | 0.3289 | 0.4166
6006320080 | 0.3289 | 0.4166
6006330020 | 0.3289 | 0.4166
6006330040 | 0.3289 | 0.4166
6006330060 | 0.3289 | 0.4166
6006330080 | 0.3289 | 0.4166
6006340020 | 0.3289 | 0.4166
6006340040 | 0.3289 | 0.4166
6006340060 | 0.3289 | 0.4166
6006340080 | 0.3289 | 0.4166
6006410025 | 0.3289 | 0.4166
6006410085 | 0.3289 | 0.4166
6006420025 | 0.3289 | 0.4166
6006420085 | 0.3289 | 0.4166
6006430025 | 0.3289 | 0.4166
6006430085 | 0.3289 | 0.4166
6006440025 | 0.3289 | 0.4166
6006440085 | 0.3289 | 0.4166
6103230075 | 0.3655 | 0.4629
6103292062 | 0.3655 | 0.4629
6103398030 | 0.3738 | 0.4734
6103411010 | 0.3576 | 0.4528
6103411020 | 0.3576 | 0.4528
6103412000 | 0.3576 | 0.4528
6103498014 | 0.3655 | 0.4629
6103498038 | 0.3655 | 0.4629
6104198060 | 0.3738 | 0.4734
6104292014 | 0.3655 | 0.4629
6104292038 | 0.3655 | 0.4629
6104292055 | 0.3655 | 0.4629
6104292069 | 0.3655 | 0.4629
6104292078 | 0.3655 | 0.4629
6104292085 | 0.3655 | 0.4629
6104392030 | 0.3738 | 0.4734
6104499030 | 0.3655 | 0.4629
6104598030 | 0.3781 | 0.4789
6104632026 | 0.3576 | 0.4528
6104632028 | 0.3576 | 0.4528
6104632030 | 0.3576 | 0.4528
6104632060 | 0.3576 | 0.4528
6104691000 | 0.3655 | 0.4629
6104692030 | 0.3655 | 0.4629
6104692060 | 0.3655 | 0.4629
6104698014 | 0.3655 | 0.4629
6104698026 | 0.3655 | 0.4629
6105908030 | 0.3499 | 0.4432
6106902530 | 0.3499 | 0.4432
6106903030 | 0.3499 | 0.4432
6107220010 | 0.3576 | 0.4528
6107991030 | 0.3576 | 0.4528
6107991040 | 0.3576 | 0.4528
6107991090 | 0.3576 | 0.4528
6108299000 | 0.3537 | 0.4480
6108398000 | 0.3537 | 0.4480
6108999000 | 0.3537 | 0.4480
6109908010 | 0.3499 | 0.4432
6110909014 | 0.3738 | 0.4734
6110909030 | 0.3738 | 0.4734
6110909052 | 0.3738 | 0.4734
6110909054 | 0.3738 | 0.4734
6110909079 | 0.3738 | 0.4734
6110909080 | 0.3738 | 0.4734
6110909081 | 0.3738 | 0.4734
6110909082 | 0.3738 | 0.4734
6112202020 | 0.3738 | 0.4734
6114200042 | 0.3655 | 0.4629
6114909055 | 0.3655 | 0.4629
6114909070 | 0.3655 | 0.4629
6116999530 | 0.3463 | 0.4385
6117809540 | 0.3463 | 0.4385
6201199030 | 0.3742 | 0.4739
6201199060 | 0.3742 | 0.4739
6201931000 | 0.2926 | 0.3706
6201999030 | 0.3658 | 0.4633
6202199030 | 0.3786 | 0.4794
6202931000 | 0.2960 | 0.3748
6202999031 | 0.3700 | 0.4685
6203199050 | 0.3700 | 0.4685
6203399030 | 0.3700 | 0.4685
6203498030 | 0.3539 | 0.4482
6204294014 | 0.3700 | 0.4685
6204294086 | 0.3700 | 0.4685
6204696070 | 0.3539 | 0.4482
6204699050 | 0.3539 | 0.4482
6207199010 | 0.3427 | 0.4340
6207220000 | 0.3501 | 0.4434
6210407000 | 0.1110 | 0.1406
6210409025 | 0.1110 | 0.1406
6210409033 | 0.1110 | 0.1406
6210409045 | 0.1110 | 0.1406
6210409060 | 0.1110 | 0.1406
6211201535 | 0.3515 | 0.4451
6211330025 | 0.3700 | 0.4685
6211330030 | 0.3700 | 0.4685
6211330035 | 0.3700 | 0.4685
6211330040 | 0.3700 | 0.4685
6211330054 | 0.3700 | 0.4685
6211330058 | 0.3700 | 0.4685
6211330061 | 0.3700 | 0.4685
6211430076 | 0.3700 | 0.4685
6211430078 | 0.3700 | 0.4685
6213902000 | 0.3356 | 0.4251
6216002120 | 0.2477 | 0.3137
5007106010 | 0.2713 | 0.3436
5007106020 | 0.2713 | 0.3436
5007906010 | 0.2713 | 0.3436
5007906020 | 0.2713 | 0.3436
5309214010 | 0.2713 | 0.3436
5309214090 | 0.2713 | 0.3436
5309294010 | 0.2713 | 0.3436
5309294090 | 0.2713 | 0.3436
5806200010 | 0.2577 | 0.3264
5806200090 | 0.2577 | 0.3264
6101301000 | 0.2072 | 0.2624
6104292026 | 0.3046 | 0.3858
6105202010 | 0.2916 | 0.3693
6105202020 | 0.2916 | 0.3693
6105202030 | 0.2916 | 0.3693
6106202010 | 0.2916 | 0.3693
6106202030 | 0.2916 | 0.3693
6106902550 | 0.2916 | 0.3693
6106903040 | 0.2916 | 0.3693
6109901007 | 0.2948 | 0.3733
6109901009 | 0.2948 | 0.3733
6109901013 | 0.2948 | 0.3733
6109901025 | 0.2948 | 0.3733
6109901047 | 0.2948 | 0.3733
6109901049 | 0.2948 | 0.3733
6109901050 | 0.2948 | 0.3733
6109901060 | 0.2948 | 0.3733
6109901065 | 0.2948 | 0.3733
6109901070 | 0.2948 | 0.3733
6109901075 | 0.2948 | 0.3733
6109901090 | 0.2948 | 0.3733
6201134030 | 0.2495 | 0.3160
6201134040 | 0.2495 | 0.3160
6202134020 | 0.3155 | 0.3995
6202134030 | 0.3155 | 0.3995
6203230050 | 0.3083 | 0.3905
6203230055 | 0.3083 | 0.3905
6203230060 | 0.3083 | 0.3905
6203230070 | 0.3083 | 0.3905
6203230080 | 0.3083 | 0.3905
6203230090 | 0.3083 | 0.3905
6203292010 | 0.3083 | 0.3905
6203292020 | 0.3083 | 0.3905
6203292030 | 0.3083 | 0.3905
6203292035 | 0.3083 | 0.3905
6203292050 | 0.3083 | 0.3905
6203292060 | 0.3083 | 0.3905
6204198060 | 0.3083 | 0.3905
6204230030 | 0.3083 | 0.3905
6204230035 | 0.3083 | 0.3905
6204230040 | 0.3083 | 0.3905
6204230045 | 0.3083 | 0.3905
6204230050 | 0.3083 | 0.3905
6204230055 | 0.3083 | 0.3905
6204230060 | 0.3083 | 0.3905
6204292010 | 0.3083 | 0.3905
6204292015 | 0.3083 | 0.3905
6204292020 | 0.3083 | 0.3905
6204292025 | 0.3083 | 0.3905
6204292030 | 0.3083 | 0.3905
6204292040 | 0.3083 | 0.3905
6204292050 | 0.3083 | 0.3905
6204294026 | 0.3083 | 0.3905
6204294038 | 0.3083 | 0.3905
6204294074 | 0.3083 | 0.3905
6204398030 | 0.3083 | 0.3905
6205302010 | 0.2949 | 0.3735
6205302020 | 0.2949 | 0.3735
6205302030 | 0.2949 | 0.3735
6205302040 | 0.2949 | 0.3735
6205302050 | 0.2949 | 0.3735
6205302055 | 0.2949 | 0.3735
6205302060 | 0.2949 | 0.3735
6205302070 | 0.2949 | 0.3735
6205302075 | 0.2949 | 0.3735
6205302080 | 0.2949 | 0.3735
6206403010 | 0.2949 | 0.3735
6206403020 | 0.2949 | 0.3735
6206403025 | 0.2949 | 0.3735
6206403030 | 0.2949 | 0.3735
6206403040 | 0.2949 | 0.3735
6206403050 | 0.2949 | 0.3735
6209301000 | 0.2917 | 0.3695
6209302000 | 0.2917 | 0.3695
6209901000 | 0.2917 | 0.3695
6209902000 | 0.2917 | 0.3695
6209903010 | 0.2917 | 0.3695
6209903015 | 0.2917 | 0.3695
6209903020 | 0.2917 | 0.3695
6209903030 | 0.2917 | 0.3695
6209903040 | 0.2917 | 0.3695
6211201525 | 0.2929 | 0.3709
6211201545 | 0.2929 | 0.3709
6211202830 | 0.3083 | 0.3905
6211203830 | 0.3083 | 0.3905
6211204860 | 0.3083 | 0.3905
6211205830 | 0.3083 | 0.3905
6211206830 | 0.3083 | 0.3905
6211207830 | 0.3083 | 0.3905
6211330010 | 0.3083 | 0.3905
6211330015 | 0.3083 | 0.3905
6211330017 | 0.3083 | 0.3905
6211430064 | 0.3083 | 0.3905
6211430074 | 0.3083 | 0.3905
6212200020 | 0.2856 | 0.3617
6212300020 | 0.2856 | 0.3617
6303921000 | 0.2768 | 0.3506
6303922010 | 0.2768 | 0.3506
6303922030 | 0.2768 | 0.3506
6303922050 | 0.2768 | 0.3506
6303990010 | 0.2768 | 0.3506
5512290010 | 0.2170 | 0.2749
5516430010 | 0.2170 | 0.2749
5603910010 | 0.0217 | 0.0275
5603910090 | 0.0651 | 0.0825
5603920010 | 0.0217 | 0.0275
5603920090 | 0.0651 | 0.0825
5603930010 | 0.0217 | 0.0275
5603930090 | 0.0651 | 0.0825
5607502500 | 0.1684 | 0.2133
5609004000 | 0.2105 | 0.2666
5705002090 | 0.1808 | 0.2289
5801310000 | 0.2170 | 0.2749
5801320000 | 0.2170 | 0.2749
5801330000 | 0.2170 | 0.2749
5801360010 | 0.2170 | 0.2749
5801360020 | 0.2170 | 0.2749
5804109090 | 0.2193 | 0.2777
5806103090 | 0.2170 | 0.2749
5806393080 | 0.2170 | 0.2749
5808104000 | 0.2170 | 0.2749
5808107000 | 0.2170 | 0.2749
5810921000 | 0.2170 | 0.2749
5810929030 | 0.2170 | 0.2749
5810929050 | 0.2170 | 0.2749
5810929080 | 0.2170 | 0.2749
5903103000 | 0.1085 | 0.1374
5903203090 | 0.1085 | 0.1374
5903903090 | 0.1085 | 0.1374
5905001000 | 0.1085 | 0.1374
5905009000 | 0.1085 | 0.1374
5906913000 | 0.1085 | 0.1374
5906993000 | 0.1085 | 0.1374
5911101000 | 0.1736 | 0.2199
5911102000 | 0.0434 | 0.0550
5911900080 | 0.2105 | 0.2666
6002408020 | 0.1974 | 0.2500
6002408080 | 0.1974 | 0.2500
6002908020 | 0.1974 | 0.2500
6002908080 | 0.1974 | 0.2500
6101909060 | 0.2550 | 0.3230
6102100000 | 0.2550 | 0.3230
6102300500 | 0.1785 | 0.2261
6102909030 | 0.2550 | 0.3230
6103230040 | 0.2437 | 0.3086
6103230045 | 0.2437 | 0.3086
6103230055 | 0.2437 | 0.3086
6103230080 | 0.2437 | 0.3086
6103398060 | 0.2492 | 0.3156
6103431520 | 0.2384 | 0.3019
6103431535 | 0.2384 | 0.3019
6103431540 | 0.2384 | 0.3019
6103431550 | 0.2384 | 0.3019
6103431565 | 0.2384 | 0.3019
6103431570 | 0.2384 | 0.3019
6103432020 | 0.2384 | 0.3019
6103432025 | 0.2384 | 0.3019
6103491020 | 0.2437 | 0.3086
6103491060 | 0.2437 | 0.3086
6103492000 | 0.2437 | 0.3086
6103498024 | 0.2437 | 0.3086
6103498026 | 0.2437 | 0.3086
6103498060 | 0.2437 | 0.3086
6104198090 | 0.2492 | 0.3156
6104292020 | 0.2437 | 0.3086
6104292032 | 0.2437 | 0.3086
6104292045 | 0.2437 | 0.3086
6104292047 | 0.2437 | 0.3086
6104292063 | 0.2437 | 0.3086
6104292090 | 0.2437 | 0.3086
6104392090 | 0.2492 | 0.3156
6104499060 | 0.2437 | 0.3086
6104598090 | 0.2521 | 0.3192
6104610010 | 0.2384 | 0.3019
6104610020 | 0.2384 | 0.3019
6104610030 | 0.2384 | 0.3019
6104631020 | 0.2384 | 0.3019
6104631030 | 0.2384 | 0.3019
6104698020 | 0.2437 | 0.3086
6104698038 | 0.2437 | 0.3086
6104698040 | 0.2437 | 0.3086
6105908060 | 0.2333 | 0.2955
6107220025 | 0.2384 | 0.3019
6108199030 | 0.2358 | 0.2986
6108320010 | 0.2358 | 0.2986
6108320015 | 0.2358 | 0.2986
6108320025 | 0.2358 | 0.2986
6108920005 | 0.2358 | 0.2986
6108920015 | 0.2358 | 0.2986
6108920025 | 0.2358 | 0.2986
6108920030 | 0.2358 | 0.2986
6108920040 | 0.2358 | 0.2986
6109908030 | 0.2333 | 0.2955
6110909020 | 0.2492 | 0.3156
6110909022 | 0.2492 | 0.3156
6110909024 | 0.2492 | 0.3156
6110909038 | 0.2492 | 0.3156
6110909040 | 0.2492 | 0.3156
6110909042 | 0.2492 | 0.3156
6110909064 | 0.2492 | 0.3156
6110909066 | 0.2492 | 0.3156
6110909088 | 0.2492 | 0.3156
6110909090 | 0.2492 | 0.3156
6111301000 | 0.2384 | 0.3019
6111302000 | 0.2384 | 0.3019
6111303000 | 0.2384 | 0.3019
6111304000 | 0.2384 | 0.3019
6111305010 | 0.2384 | 0.3019
6111305015 | 0.2384 | 0.3019
6111305020 | 0.2384 | 0.3019
6111305030 | 0.2384 | 0.3019
6111305050 | 0.2384 | 0.3019
6111305070 | 0.2384 | 0.3019
6111901000 | 0.2384 | 0.3019
6111902000 | 0.2384 | 0.3019
6111903000 | 0.2384 | 0.3019
6111904000 | 0.2384 | 0.3019
6111905010 | 0.2384 | 0.3019
6111905020 | 0.2384 | 0.3019
6111905030 | 0.2384 | 0.3019
6111905050 | 0.2384 | 0.3019
6111905070 | 0.2384 | 0.3019
6112120010 | 0.2384 | 0.3019
6112120020 | 0.2384 | 0.3019
6112120030 | 0.2384 | 0.3019
6112120040 | 0.2384 | 0.3019
6112120050 | 0.2384 | 0.3019
6112120060 | 0.2384 | 0.3019
6112191010 | 0.2492 | 0.3156
6112191020 | 0.2492 | 0.3156
6112191030 | 0.2492 | 0.3156
6112191040 | 0.2492 | 0.3156
6112191050 | 0.2492 | 0.3156
6112191060 | 0.2492 | 0.3156
6112201060 | 0.2492 | 0.3156
6112201070 | 0.2492 | 0.3156
6112201080 | 0.2492 | 0.3156
6112201090 | 0.2492 | 0.3156
6112202030 | 0.2492 | 0.3156
6114301010 | 0.2437 | 0.3086
6114301020 | 0.2437 | 0.3086
6114303014 | 0.2437 | 0.3086
6114303020 | 0.2437 | 0.3086
6114303030 | 0.2437 | 0.3086
6114303042 | 0.2437 | 0.3086
6114303044 | 0.2437 | 0.3086
6114303052 | 0.2437 | 0.3086
6114303054 | 0.2437 | 0.3086
6114303060 | 0.2437 | 0.3086
6114303070 | 0.2437 | 0.3086
6115966020 | 0.2193 | 0.2777
6115991420 | 0.2193 | 0.2777
6115991920 | 0.2193 | 0.2777
6116109500 | 0.1616 | 0.2047
6117106020 | 0.2308 | 0.2924
6117909015 | 0.2308 | 0.2924
6201134015 | 0.1996 | 0.2528
6201134020 | 0.1996 | 0.2528
6201932010 | 0.2439 | 0.3089
6201932020 | 0.2439 | 0.3089
6201933511 | 0.2439 | 0.3089
6201933521 | 0.2439 | 0.3089
6201999060 | 0.2439 | 0.3089
6202134005 | 0.2524 | 0.3196
6202134010 | 0.2524 | 0.3196
6202199060 | 0.2524 | 0.3196
6202932010 | 0.2466 | 0.3124
6202932020 | 0.2466 | 0.3124
6202935011 | 0.2466 | 0.3124
6202935021 | 0.2466 | 0.3124
6202999061 | 0.2466 | 0.3124
6203199080 | 0.2466 | 0.3124
6203399060 | 0.2466 | 0.3124
6203431000 | 0.1887 | 0.2390
6203432010 | 0.2359 | 0.2988
6203432025 | 0.2359 | 0.2988
6203432050 | 0.2359 | 0.2988
6203432090 | 0.2359 | 0.2988
6203491010 | 0.2359 | 0.2988
6203491025 | 0.2359 | 0.2988
6203491050 | 0.2359 | 0.2988
6203491090 | 0.2359 | 0.2988
6203492015 | 0.2359 | 0.2988
6203492020 | 0.2359 | 0.2988
6203498045 | 0.2359 | 0.2988
6204198090 | 0.2466 | 0.3124
6204294020 | 0.2466 | 0.3124
6204294032 | 0.2466 | 0.3124
6204294047 | 0.2466 | 0.3124
6204294049 | 0.2466 | 0.3124
6204294080 | 0.2466 | 0.3124
6204294092 | 0.2466 | 0.3124
6204495030 | 0.2466 | 0.3124
6204533010 | 0.2524 | 0.3196
6204533020 | 0.2524 | 0.3196
6204594030 | 0.2524 | 0.3196
6204594060 | 0.2524 | 0.3196
6204631000 | 0.2019 | 0.2557
6204631510 | 0.2359 | 0.2988
6204631525 | 0.2359 | 0.2988
6204631550 | 0.2359 | 0.2988
6204633510 | 0.2412 | 0.3054
6204633525 | 0.2412 | 0.3054
6204633530 | 0.2412 | 0.3054
6204633532 | 0.2309 | 0.2924
6204633535 | 0.2309 | 0.2924
6204633540 | 0.2309 | 0.2924
6204691010 | 0.2359 | 0.2988
6204691025 | 0.2359 | 0.2988
6204691050 | 0.2359 | 0.2988
6204692510 | 0.2359 | 0.2988
6204692520 | 0.2359 | 0.2988
6204692530 | 0.2359 | 0.2988
6204692540 | 0.2309 | 0.2924
6204692550 | 0.2309 | 0.2924
6204692560 | 0.2309 | 0.2924
6204696030 | 0.2359 | 0.2988
6204699030 | 0.2359 | 0.2988
6204699044 | 0.2359 | 0.2988
6204699046 | 0.2359 | 0.2988
6205901000 | 0.2359 | 0.2988
6205903030 | 0.2359 | 0.2988
6205904030 | 0.2359 | 0.2988
6205904040 | 0.2359 | 0.2988
6206100030 | 0.2359 | 0.2988
6206100050 | 0.2359 | 0.2988
6206900030 | 0.2359 | 0.2988
6207997520 | 0.2412 | 0.3054
6207998510 | 0.2412 | 0.3054
6207998520 | 0.2412 | 0.3054
6208110000 | 0.2412 | 0.3054
6208199000 | 0.2412 | 0.3054
6208299030 | 0.2359 | 0.2988
6208995010 | 0.2412 | 0.3054
6208995020 | 0.2412 | 0.3054
6208998010 | 0.2412 | 0.3054
6208998020 | 0.2412 | 0.3054
6209303010 | 0.2334 | 0.2956
6209303020 | 0.2334 | 0.2956
6209303030 | 0.2334 | 0.2956
6209303040 | 0.2334 | 0.2956
6210109010 | 0.2170 | 0.2749
6210109040 | 0.2170 | 0.2749
6211118040 | 0.2412 | 0.3054
6211201515 | 0.2343 | 0.2967
6211201565 | 0.2343 | 0.2967
6211202820 | 0.2466 | 0.3124
6211203820 | 0.2466 | 0.3124
6211204835 | 0.2466 | 0.3124
6211205820 | 0.2466 | 0.3124
6211206820 | 0.2466 | 0.3124
6211207820 | 0.2466 | 0.3124
6211399010 | 0.2466 | 0.3124
6211399020 | 0.2466 | 0.3124
6211399030 | 0.2466 | 0.3124
6211399040 | 0.2466 | 0.3124
6211399050 | 0.2466 | 0.3124
6211399060 | 0.2466 | 0.3124
6211399070 | 0.2466 | 0.3124
6211399090 | 0.2466 | 0.3124
6211430010 | 0.2466 | 0.3124
6211430020 | 0.2466 | 0.3124
6211430030 | 0.2466 | 0.3124
6211430040 | 0.2466 | 0.3124
6211430050 | 0.2466 | 0.3124
6211430060 | 0.2466 | 0.3124
6211430066 | 0.2466 | 0.3124
6211430091 | 0.2466 | 0.3124
6211499010 | 0.2466 | 0.3124
6211499020 | 0.2466 | 0.3124
6211499030 | 0.2466 | 0.3124
6211499040 | 0.2466 | 0.3124
6211499050 | 0.2466 | 0.3124
6211499060 | 0.2466 | 0.3124
6211499070 | 0.2466 | 0.3124
6211499080 | 0.2466 | 0.3124
6211499090 | 0.2466 | 0.3124
6212105020 | 0.2285 | 0.2893
6212105030 | 0.2285 | 0.2893
6212109020 | 0.2285 | 0.2893
6212109040 | 0.2285 | 0.2893
6212900010 | 0.1828 | 0.2315
6212900020 | 0.1828 | 0.2315
6212900030 | 0.1828 | 0.2315
6214900090 | 0.2285 | 0.2893
6216000800 | 0.0685 | 0.0868
6216001730 | 0.1599 | 0.2025
6216002425 | 0.1651 | 0.2091
6216002600 | 0.1651 | 0.2091
6216002925 | 0.1651 | 0.2091
6216003100 | 0.1651 | 0.2091
6217109530 | 0.2412 | 0.3054
6217909010 | 0.2412 | 0.3054
6217909035 | 0.2412 | 0.3054
6217909060 | 0.2412 | 0.3054
6217909085 | 0.2412 | 0.3054
6301900030 | 0.2215 | 0.2805
6302290020 | 0.2215 | 0.2805
6302390030 | 0.2215 | 0.2805
6302992000 | 0.2215 | 0.2805
6304193060 | 0.2215 | 0.2805
6304910070 | 0.2215 | 0.2805
6304996040 | 0.2215 | 0.2805
6101900500 | 0.1912 | 0.2422
6103109080 | 0.1827 | 0.2315
6103292066 | 0.1827 | 0.2315
6103292068 | 0.1827 | 0.2315
6104230032 | 0.1827 | 0.2315
6104230034 | 0.1827 | 0.2315
6104230036 | 0.1827 | 0.2315
6104291030 | 0.1827 | 0.2315
6104291040 | 0.1827 | 0.2315
6104291050 | 0.1827 | 0.2315
6107299000 | 0.1788 | 0.2264
6110909028 | 0.1869 | 0.2367
6117808770 | 0.1731 | 0.2193
6117809570 | 0.1731 | 0.2193
6205903050 | 0.1769 | 0.2241
6206900040 | 0.1769 | 0.2241
6217109520 | 0.1809 | 0.2291
6217909005 | 0.1809 | 0.2291
6217909030 | 0.1809 | 0.2291
6217909055 | 0.1809 | 0.2291
6217909080 | 0.1809 | 0.2291
9404908536 | 0.0997 | 0.1262
5112904000 | 0.1085 | 0.1374
5112905000 | 0.1085 | 0.1374
5112909010 | 0.1085 | 0.1374
5112909090 | 0.1085 | 0.1374
5509210000 | 0.1053 | 0.1333
5509220010 | 0.1053 | 0.1333
5509220090 | 0.1053 | 0.1333
5512110010 | 0.1085 | 0.1374
5512110022 | 0.1085 | 0.1374
5512110027 | 0.1085 | 0.1374
5512110030 | 0.1085 | 0.1374
5512110040 | 0.1085 | 0.1374
5512110050 | 0.1085 | 0.1374
5512110060 | 0.1085 | 0.1374
5512110070 | 0.1085 | 0.1374
5512110090 | 0.1085 | 0.1374
5512190005 | 0.1085 | 0.1374
5512190010 | 0.1085 | 0.1374
5512190015 | 0.1085 | 0.1374
5512190022 | 0.1085 | 0.1374
5512190027 | 0.1085 | 0.1374
5512190030 | 0.1085 | 0.1374
5512190035 | 0.1085 | 0.1374
5512190040 | 0.1085 | 0.1374
5512190045 | 0.1085 | 0.1374
5512190050 | 0.1085 | 0.1374
5512190090 | 0.1085 | 0.1374
5515110005 | 0.1085 | 0.1374
5515110010 | 0.1085 | 0.1374
5515110015 | 0.1085 | 0.1374
5515110020 | 0.1085 | 0.1374
5515110025 | 0.1085 | 0.1374
5515110030 | 0.1085 | 0.1374
5515110035 | 0.1085 | 0.1374
5515110040 | 0.1085 | 0.1374
5515110045 | 0.1085 | 0.1374
5515110090 | 0.1085 | 0.1374
5515120010 | 0.1085 | 0.1374
5515120022 | 0.1085 | 0.1374
5515120027 | 0.1085 | 0.1374
5515120030 | 0.1085 | 0.1374
5515120040 | 0.1085 | 0.1374
5515120090 | 0.1085 | 0.1374
5515190005 | 0.1085 | 0.1374
5515190010 | 0.1085 | 0.1374
5515190015 | 0.1085 | 0.1374
5515190020 | 0.1085 | 0.1374
5515190025 | 0.1085 | 0.1374
5515190030 | 0.1085 | 0.1374
5515190035 | 0.1085 | 0.1374
5515190040 | 0.1085 | 0.1374
5515190045 | 0.1085 | 0.1374
5515190090 | 0.1085 | 0.1374
5515290005 | 0.1085 | 0.1374
5515290010 | 0.1085 | 0.1374
5515290015 | 0.1085 | 0.1374
5515290020 | 0.1085 | 0.1374
5515290025 | 0.1085 | 0.1374
5515290030 | 0.1085 | 0.1374
5515290035 | 0.1085 | 0.1374
5515290040 | 0.1085 | 0.1374
5515290045 | 0.1085 | 0.1374
5515290090 | 0.1085 | 0.1374
5515999005 | 0.1085 | 0.1374
5515999010 | 0.1085 | 0.1374
5515999015 | 0.1085 | 0.1374
5515999020 | 0.1085 | 0.1374
5515999025 | 0.1085 | 0.1374
5515999030 | 0.1085 | 0.1374
5515999035 | 0.1085 | 0.1374
5515999040 | 0.1085 | 0.1374
5515999045 | 0.1085 | 0.1374
5515999090 | 0.1085 | 0.1374
5516210010 | 0.1085 | 0.1374
5516210020 | 0.1085 | 0.1374
5516210030 | 0.1085 | 0.1374
5516210040 | 0.1085 | 0.1374
5516210090 | 0.1085 | 0.1374
5516220010 | 0.1085 | 0.1374
5516220020 | 0.1085 | 0.1374
5516220030 | 0.1085 | 0.1374
5516220040 | 0.1085 | 0.1374
5516220090 | 0.1085 | 0.1374
5516230010 | 0.1085 | 0.1374
5516230020 | 0.1085 | 0.1374
5516230030 | 0.1085 | 0.1374
5516230040 | 0.1085 | 0.1374
5516230090 | 0.1085 | 0.1374
5516240010 | 0.1085 | 0.1374
5516240020 | 0.1085 | 0.1374
5516240030 | 0.1085 | 0.1374
5516240040 | 0.1085 | 0.1374
5516240085 | 0.1085 | 0.1374
5516240095 | 0.1085 | 0.1374
5602101000 | 0.0543 | 0.0687
5702312000 | 0.0895 | 0.1133
5702322000 | 0.0895 | 0.1133
5702391000 | 0.0895 | 0.1133
5702421000 | 0.0895 | 0.1133
5702422020 | 0.0895 | 0.1133
5702422080 | 0.0895 | 0.1133
5702492000 | 0.0895 | 0.1133
5702502000 | 0.0895 | 0.1133
5702505200 | 0.0895 | 0.1133
5802200020 | 0.1085 | 0.1374
5802300090 | 0.1085 | 0.1374
5805001000 | 0.1085 | 0.1374
5806400000 | 0.0814 | 0.1031
6001106000 | 0.1096 | 0.1389
6001220000 | 0.1096 | 0.1389
6001290000 | 0.1096 | 0.1389
6001999000 | 0.1096 | 0.1389
6003301000 | 0.1096 | 0.1389
6003306000 | 0.1096 | 0.1389
6003401000 | 0.1096 | 0.1389
6003406000 | 0.1096 | 0.1389
6003901000 | 0.1096 | 0.1389
6003909000 | 0.1096 | 0.1389
6005310010 | 0.1096 | 0.1389
6005310080 | 0.1096 | 0.1389
6005320010 | 0.1096 | 0.1389
6005320080 | 0.1096 | 0.1389
6005330010 | 0.1096 | 0.1389
6005330080 | 0.1096 | 0.1389
6005340010 | 0.1096 | 0.1389
6005340080 | 0.1096 | 0.1389
6005410010 | 0.1096 | 0.1389
6005410080 | 0.1096 | 0.1389
6005420010 | 0.1096 | 0.1389
6005420080 | 0.1096 | 0.1389
6005430010 | 0.1096 | 0.1389
6005430080 | 0.1096 | 0.1389
6005440010 | 0.1096 | 0.1389
6005440080 | 0.1096 | 0.1389
6005909000 | 0.1096 | 0.1389
6006909000 | 0.1096 | 0.1389
6103104000 | 0.1218 | 0.1543
6103105000 | 0.1218 | 0.1543
6103109040 | 0.1218 | 0.1543
6103109050 | 0.1218 | 0.1543
6103230025 | 0.1218 | 0.1543
6103230030 | 0.1218 | 0.1543
6103230035 | 0.1218 | 0.1543
6103230070 | 0.1218 | 0.1543
6103292030 | 0.1218 | 0.1543
6103292036 | 0.1218 | 0.1543
6103292040 | 0.1218 | 0.1543
6103292044 | 0.1218 | 0.1543
6103292048 | 0.1218 | 0.1543
6103292052 | 0.1218 | 0.1543
6103292054 | 0.1218 | 0.1543
6103292070 | 0.1218 | 0.1543
6103292074 | 0.1218 | 0.1543
6103292082 | 0.1218 | 0.1543
6104230016 | 0.1218 | 0.1543
6104230020 | 0.1218 | 0.1543
6104230026 | 0.1218 | 0.1543
6104230030 | 0.1218 | 0.1543
6104291010 | 0.1218 | 0.1543
6104291020 | 0.1218 | 0.1543
6104292073 | 0.1218 | 0.1543
6104292075 | 0.1218 | 0.1543
6107191000 | 0.1192 | 0.1509
6107220015 | 0.1192 | 0.1509
6107999000 | 0.1192 | 0.1509
6110909012 | 0.1246 | 0.1578
6112310010 | 0.1192 | 0.1509
6112310020 | 0.1192 | 0.1509
6112410010 | 0.1192 | 0.1509
6112410020 | 0.1192 | 0.1509
6112410030 | 0.1192 | 0.1509
6112410040 | 0.1192 | 0.1509
6114302060 | 0.1218 | 0.1543
6115106000 | 0.1096 | 0.1389
6115999000 | 0.1096 | 0.1389
6116938800 | 0.1154 | 0.1462
6116939400 | 0.1154 | 0.1462
6116994800 | 0.1154 | 0.1462
6116995400 | 0.1154 | 0.1462
6203122010 | 0.1233 | 0.1562
6203122020 | 0.1233 | 0.1562
6203332010 | 0.1233 | 0.1562
6203332020 | 0.1233 | 0.1562
6203392010 | 0.1233 | 0.1562
6203392020 | 0.1233 | 0.1562
6203431500 | 0.1180 | 0.1494
6203432005 | 0.1180 | 0.1494
6203434010 | 0.1167 | 0.1478
6203434015 | 0.1167 | 0.1478
6203434020 | 0.1167 | 0.1478
6203434030 | 0.1167 | 0.1478
6203434035 | 0.1167 | 0.1478
6203434040 | 0.1167 | 0.1478
6203491005 | 0.1180 | 0.1494
6203492030 | 0.1180 | 0.1494
6203492045 | 0.1180 | 0.1494
6203492050 | 0.1180 | 0.1494
6203492060 | 0.1180 | 0.1494
6204132010 | 0.1233 | 0.1562
6204132020 | 0.1233 | 0.1562
6204192000 | 0.1233 | 0.1562
6204294084 | 0.1233 | 0.1562
6204619040 | 0.1180 | 0.1494
6204631200 | 0.1180 | 0.1494
6204631505 | 0.1180 | 0.1494
6204691005 | 0.1180 | 0.1494
6205900710 | 0.1180 | 0.1494
6205900720 | 0.1180 | 0.1494
6206100040 | 0.1180 | 0.1494
6207291000 | 0.1167 | 0.1478
6207299030 | 0.1167 | 0.1478
6208195000 | 0.1206 | 0.1527
6208220000 | 0.1180 | 0.1494
6208920010 | 0.1206 | 0.1527
6208920020 | 0.1206 | 0.1527
6208920030 | 0.1206 | 0.1527
6208920040 | 0.1206 | 0.1527
6209900500 | 0.1154 | 0.1462
6210203000 | 0.0362 | 0.0458
6210205000 | 0.0844 | 0.1069
6210303000 | 0.0362 | 0.0458
6210305000 | 0.0844 | 0.1069
6210307000 | 0.0362 | 0.0458
6210403000 | 0.0370 | 0.0469
6210405031 | 0.0863 | 0.1093
6210405039 | 0.0863 | 0.1093
6210503000 | 0.0370 | 0.0469
6210505020 | 0.0863 | 0.1093
6210505031 | 0.0863 | 0.1093
6210505039 | 0.0863 | 0.1093
6210505040 | 0.0863 | 0.1093
6210505055 | 0.0863 | 0.1093
6211111010 | 0.1206 | 0.1527
6211111020 | 0.1206 | 0.1527
6211200420 | 0.0965 | 0.1222
6211200440 | 0.0965 | 0.1222
6211202400 | 0.1233 | 0.1562
6211203400 | 0.1233 | 0.1562
6211204400 | 0.1233 | 0.1562
6211205400 | 0.1233 | 0.1562
6211206400 | 0.1233 | 0.1562
6211207400 | 0.1233 | 0.1562
6211330003 | 0.0987 | 0.1249
6211330007 | 0.1233 | 0.1562
6211390510 | 0.1233 | 0.1562
6211390520 | 0.1233 | 0.1562
6211390530 | 0.1233 | 0.1562
6211390540 | 0.1233 | 0.1562
6211390545 | 0.1233 | 0.1562
6211390551 | 0.1233 | 0.1562
6211410030 | 0.1233 | 0.1562
6211430003 | 0.0987 | 0.1249
6211430007 | 0.1233 | 0.1562
6212200030 | 0.1142 | 0.1447
6212300030 | 0.1142 | 0.1447
6212900050 | 0.0914 | 0.1157
6214300000 | 0.1142 | 0.1447
6214400000 | 0.1142 | 0.1447
6215100025 | 0.1142 | 0.1447
6215200000 | 0.1142 | 0.1447
6304113000 | 0.1107 | 0.1402
5512910010 | 0.0543 | 0.0687
5512990005 | 0.0543 | 0.0687
5512990010 | 0.0543 | 0.0687
5512990015 | 0.0543 | 0.0687
5512990020 | 0.0543 | 0.0687
5512990025 | 0.0543 | 0.0687
5512990030 | 0.0543 | 0.0687
5512990035 | 0.0543 | 0.0687
5512990040 | 0.0543 | 0.0687
5512990045 | 0.0543 | 0.0687
5512990090 | 0.0543 | 0.0687
5516910010 | 0.0543 | 0.0687
5516910020 | 0.0543 | 0.0687
5516910030 | 0.0543 | 0.0687
5516910040 | 0.0543 | 0.0687
5516910050 | 0.0543 | 0.0687
5516910060 | 0.0543 | 0.0687
5516910070 | 0.0543 | 0.0687
5516910090 | 0.0543 | 0.0687
5516920010 | 0.0543 | 0.0687
5516920020 | 0.0543 | 0.0687
5516920030 | 0.0543 | 0.0687
5516920040 | 0.0543 | 0.0687
5516920050 | 0.0543 | 0.0687
5516920060 | 0.0543 | 0.0687
5516920070 | 0.0543 | 0.0687
5516920090 | 0.0543 | 0.0687
5516930010 | 0.0543 | 0.0687
5516930020 | 0.0543 | 0.0687
5516930090 | 0.0543 | 0.0687
5516940010 | 0.0543 | 0.0687
5516940020 | 0.0543 | 0.0687
5516940030 | 0.0543 | 0.0687
5516940040 | 0.0543 | 0.0687
5516940050 | 0.0543 | 0.0687
5516940060 | 0.0543 | 0.0687
5516940070 | 0.0543 | 0.0687
5516940090 | 0.0543 | 0.0687
5701101300 | 0.0526 | 0.0667
5701101600 | 0.0526 | 0.0667
5701104000 | 0.0526 | 0.0667
5701109000 | 0.0526 | 0.0667
5701901030 | 0.0526 | 0.0667
5701901090 | 0.0526 | 0.0667
5701902030 | 0.0526 | 0.0667
5701902090 | 0.0526 | 0.0667
5702101000 | 0.0447 | 0.0567
5702109010 | 0.0447 | 0.0567
5702109030 | 0.0447 | 0.0567
5702109090 | 0.0447 | 0.0567
5702201000 | 0.0447 | 0.0567
5702311000 | 0.0447 | 0.0567
5702392090 | 0.0447 | 0.0567
5702411000 | 0.0447 | 0.0567
5702412000 | 0.0447 | 0.0567
5702504000 | 0.0447 | 0.0567
5702912000 | 0.0447 | 0.0567
5702913000 | 0.0447 | 0.0567
5702914000 | 0.0447 | 0.0567
5702921000 | 0.0447 | 0.0567
5702929000 | 0.0447 | 0.0567
5703201000 | 0.0452 | 0.0572
5703202010 | 0.0452 | 0.0572
5703302000 | 0.0452 | 0.0572
5705001000 | 0.0452 | 0.0572
5705002005 | 0.0452 | 0.0572
5705002015 | 0.0452 | 0.0572
5705002030 | 0.0452 | 0.0572
6001920010 | 0.0548 | 0.0694
6001920020 | 0.0548 | 0.0694
6001920030 | 0.0548 | 0.0694
6001920040 | 0.0548 | 0.0694
6103101000 | 0.0637 | 0.0807
6103292028 | 0.0609 | 0.0772
6106901500 | 0.0583 | 0.0739
6203433510 | 0.0590 | 0.0747
6203433590 | 0.0590 | 0.0747
6204110000 | 0.0617 | 0.0781
6204412010 | 0.0603 | 0.0764
6204412020 | 0.0603 | 0.0764
6204432000 | 0.0603 | 0.0764
6204510010 | 0.0631 | 0.0799
6204510020 | 0.0631 | 0.0799
6204532010 | 0.0631 | 0.0799
6204532020 | 0.0631 | 0.0799
6204611010 | 0.0590 | 0.0747
6204611020 | 0.0590 | 0.0747
6204619010 | 0.0590 | 0.0747
6204619020 | 0.0590 | 0.0747
6204619030 | 0.0590 | 0.0747
6204632510 | 0.0590 | 0.0747
6204632520 | 0.0590 | 0.0747
6204633010 | 0.0603 | 0.0764
6204633090 | 0.0603 | 0.0764
6204692010 | 0.0590 | 0.0747
6204692020 | 0.0590 | 0.0747
6204692030 | 0.0590 | 0.0747
6206203010 | 0.0590 | 0.0747
6206203020 | 0.0590 | 0.0747
6208992010 | 0.0603 | 0.0764
6208992020 | 0.0603 | 0.0764
6211121010 | 0.0603 | 0.0764
6211121020 | 0.0603 | 0.0764
6211410020 | 0.0617 | 0.0781
6211410040 | 0.0617 | 0.0781
6211410050 | 0.0617 | 0.0781
6211410055 | 0.0617 | 0.0781
6211410061 | 0.0617 | 0.0781
5512210010 | 0.0326 | 0.0412
5512210020 | 0.0326 | 0.0412
5512210030 | 0.0326 | 0.0412
5512210040 | 0.0326 | 0.0412
5512210060 | 0.0326 | 0.0412
5512210070 | 0.0326 | 0.0412
5512210090 | 0.0326 | 0.0412

* * * * *

Authority: 7 U.S.C. 2101-2118.

Dated: August 22, 2011.
David R. Shipman,
Acting Administrator, Agricultural Marketing Service.

[FR Doc. 2011-22159 Filed 8-30-11; 8:45 am]

BILLING CODE 3410-02-P